FEDERAL COMMUNICATIONS COMMISSION

47 CFR Parts 54 and 64

[WC Docket Nos. 22-238, 11-42, and 21-450; FCC 23-9; FR ID 129141]

Supporting Survivors of Domestic and Sexual Violence, Lifeline and Link Up Reform and Modernization, Affordable Connectivity Program

AGENCY: Federal Communications Commission.

ACTION: Proposed rule.

SUMMARY: In this document, the Federal Communications Commission (Commission) begins the process of implementing the Safe Connections Act, taking significant steps to improve access to communications services for survivors of domestic abuse and related crimes. We seek comment on the implementation of the Safe Connections Act's statutory requirement that mobile service providers separate the line of a survivor of domestic violence (and other related crimes and abuse), and any individuals in the care of the survivor, from a mobile service contract shared with an abuser within two business days after receiving a request from the survivor. We also seek comment on a proposal to require service providers to omit from consumer-facing logs of calls and text messages any records of calls or text messages to hotlines listed in a central database of hotlines that the Commission would create. We also seek comment on whether to designate the Lifeline program or the Affordable Connectivity Program as a means for providing survivors suffering financial hardship with emergency communications support for up to six months, as required by the Safe Connections Act.

DATES: Comments are due on or before April 12, 2023, and reply comments are due on or before May 12, 2023. Written comments on the Paperwork Reduction Act proposed information collection requirements must be submitted by the public, Office of Management and Budget (OMB), and other interested parties on or before May 12, 2023.

ADDRESSES: You may submit comments, identified by WC Docket Nos. 22-238, 11-42, and 21-450, by any of the following methods:

• Electronic Filers: Comments may be filed electronically using the internet by accessing ECFS: https://www.fcc.gov/ecfs/.

• Paper Filers: Parties who choose to file by paper must file an original and one copy of each filing.

Filings can be sent by hand or messenger delivery, by commercial overnight courier, or by first-class or overnight U.S. Postal Service mail.

• Commercial overnight mail (other than U.S. Postal Service Express Mail and Priority Mail) must be sent to 9050 Junction Drive, Annapolis Junction, MD 20701.

• U.S. Postal Service first-class, Express, and Priority mail must be addressed to 45 L Street NE, Washington, DC 20554. All filings must be addressed to the Commission's Secretary, Office of the Secretary, Federal Communications Commission.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020), https://www.fcc.gov/document/fcc-closes-headquarters-open-window-and-changes-hand-delivery-policy.

People with Disabilities. To request materials in accessible formats for people with disabilities (braille, large print, electronic files, audio format), send an email to fcc504@fcc.gov or call the Consumer & Governmental Affairs Bureau at 202-418-0530 (voice).

FOR FURTHER INFORMATION CONTACT: Travis Hahn, Wireline Competition Bureau, Telecommunications Access Policy Division, at Travis.Hahn@fcc.gov or Chris Laughlin, Wireline Competition Bureau, Competition Policy Division, at Chris.Laughlin@fcc.gov. For additional information concerning the Paperwork Reduction Act information collection requirements contained in this document, send an email to PRA@fcc.gov or contact Nicole On'gele at (202) 418-2991.

SUPPLEMENTARY INFORMATION: This is a summary of the Commission's Notice of Proposed Rulemaking (NPRM) in WC Docket Nos. 22-238, 11-42, and 21-450, adopted on February 16, 2023 and released on February 17, 2023. The full text of this document is available at https://docs.fcc.gov/public/attachments/FCC-23-9A1.pdf. To request materials in accessible formats for people with disabilities (e.g., braille, large print, electronic files, audio format, etc.) or to request reasonable accommodations (e.g., accessible format documents, sign language interpreters, CART, etc.), send an email to fcc504@fcc.gov or call the Consumer & Governmental Affairs Bureau at 202-418-0530.

Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

The proceeding this document initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

This document contains proposed new or modified information collection requirements. The Commission, as part of its continuing effort to reduce paperwork burdens, invites the general public and the Office of Management and Budget (OMB) to comment on the information collection requirements contained in this document, as required by the Paperwork Reduction Act of 1995, Public Law 104-13. Public and agency comments are due May 12, 2023. Comments should address: (a) whether the proposed collection of information is necessary for the proper performance of the functions of the Commission, including whether the information shall have practical utility; (b) the accuracy of the Commission's burden estimates; (c) ways to enhance the quality, utility, and clarity of the information collected; (d) ways to minimize the burden of the collection of information on the respondents, including the use of automated collection techniques or other forms of information technology; and (e) way to further reduce the information collection burden on small business concerns with fewer than 25 employees. In addition, pursuant to the Small Business Paperwork Relief Act of 2002, Public Law 107-198, see 44 U.S.C. 3506(c)(4), we seek specific comment on how we might further reduce the information collection burden for small business concerns with fewer than 25 employees.

Synopsis

I. Notice of Proposed Rulemaking

1. Reliable, safe, and affordable connectivity is critical to survivors leaving a relationship involving domestic violence, human trafficking, and other related crimes or abuse. This connectivity can assist survivors in breaking away from their abusers and finding and maintaining contact with safe support networks, including family and friends. Survivors whose devices and associated telephone numbers are part of multi-line or shared plans (commonly referred to as “family plans”), however, can face difficulties separating lines from such plans and maintaining affordable service. Further, having access to an independent phone or broadband connection is important for survivors to be able to communicate and access other available services without fear of their communications, location, or other private information being revealed to their abusers.

2. In this Notice of Proposed Rulemaking (NPRM), we continue the work we initiated in July of last year to support the connectivity needs of survivors. Specifically, we begin the process of implementing the Safe Connections Act of 2022 (Safe Connections Act), enacted this past December, which provides important statutory support for specific measures to benefit survivors. We seek comment on proposed rules that would help survivors separate service lines from accounts that include their abusers, protect the privacy of calls made by survivors to domestic abuse hotlines, and support survivors that pursue a line separation request and face financial hardship through the Commission's affordability programs. We believe that these measures will aid survivors who lack meaningful support and communications options when establishing independence from an abuser.

A. Separation of Lines From Shared Mobile Service Contracts

3. In this section, we propose new rules to codify and implement the line separation provisions in the Safe Connections Act. Our proposed rules largely track the statutory language, with some additional proposals and requests for comment concerning other issues that may be implicated by line separations.

1. Definitions

4. We propose to adopt in our rules the definitions of the terms listed in new section 345 of the Communications Act, as added by the Safe Connections Act, including “covered act,” “survivor,” “abuser,” “covered provider,” “shared mobile services contract,” and “primary account holder.” We seek comment on each proposed definition and invite commenters to address our specific questions below.

5. Covered Act. We propose to define “covered act” as conduct that constitutes (1) a crime described in section 40002(a) of the Violence Against Women Act of 1994 (34 U.S.C. 12291(a)), including, but not limited to, domestic violence, dating violence, sexual assault, stalking, and sex trafficking; (2) an act or practice described in paragraph (11) or (12) of section 103 of the Trafficking Victims Protection Act of 2000 (22 U.S.C. 7102) (relating to severe forms of trafficking in persons and sex trafficking, respectively); or (3) an act under State law, Tribal law, or the Uniform Code of Military Justice that is similar to an offense described in clause (1) or (2) of this paragraph. Our proposed definition is identical to the term as defined in the Safe Connections Act, except that we propose to add the clause “but not limited to” in describing the crimes covered by the first clause. Section 40002(a) of the Violence Against Women Act of 1994 describes a number of crimes and abuses in addition to those crimes enumerated in the Safe Connections Act's definition of “covered act,” including abuse in later life, child abuse and neglect, child maltreatment, economic abuse, elder abuse, female genital mutilation or cutting, forced marriage, and technological abuse. Although the Safe Connections Act describes a covered act as “a crime described” in section 40002(a) of the Violence Against Women Act “including domestic violence, dating violence, sexual assault, stalking, and sex trafficking,” it does not say that only those listed crimes may be included. We believe the best reading of the definition of “covered act” in the Safe Connections Act includes all crimes listed in section 40002(a); we see no reason why Congress would choose to protect only a subset of survivors of these crimes. We believe the second clause of the definition of “covered act” in the Safe Connections Act, which identifies specific subsections (“an act or practice described in paragraph (11) or (12) of section 103 of the Trafficking Victims Protection Act of 2000”) also supports our analysis because in contrast, the first clause of the definition of “covered act” does not limit the definition to specific subsections of section 40002(a) of the Violence Against Women Act. We seek comment on this proposed analysis. How should the fact that the Safe Connections Act specifically mentions “[d]omestic violence, dating violence, stalking, sexual assault, human trafficking, and related crimes” in its findings in section 3, while not mentioning the other crimes and abuses listed in section 40002(a) of the Violence Against Women Act, factor into our analysis? To what extent can we include in our definition abuses described in section 40002(a) of the Violence Against Women Act that may not be “crimes” under the statute?

6. We seek comment on whether, instead of mirroring the statutory language in our definition of “covered act,” the Commission's rules should list out the crimes identified in section 40002(a) of the Violence Against Women Act of 1994 and paragraph (11) or (12) of section 103 of the Trafficking Victims Protection Act of 2000. Would such an approach help provide additional clarity of the scope of the Safe Connections Act's protections for covered providers and survivors? Would adopting such a rule run the risk of our rules becoming inconsistent with statutory intent if Congress revises either of those statutes in the future?

7. Finally, consistent with the Safe Connections Act, we propose that a criminal conviction or any other determination of a court shall not be required for conduct to constitute a covered act. We seek comment on our proposal. The Safe Connections Act separately addresses the evidence needed to establish that a covered act has been committed or allegedly committed. We address those requirements below.

8. Survivor. We propose to define “survivor” as an individual who is not less than 18 years old and (1) against whom a covered act has been committed or allegedly committed; or (2) who cares for another individual against whom a covered act has been committed or allegedly committed (provided that the individual providing care did not commit or allegedly commit the covered act), mirroring the Safe Connections Act's definition of “survivor.” We seek comment on our proposal. Are there other situations or circumstances in which an individual should be considered a “survivor” under our rules, and if so, under what authority would we expand that definition?

9. We seek comment on how we should interpret the Safe Connections Act's language describing a survivor as an individual “who cares for another individual” against whom a covered act has been committed or allegedly committed, to provide guidance to both covered providers and survivors. We observe that the statutory language is broad—Congress did not limit this provision to only those situations in which an individual is providing care to family members, minors, dependents, or those residing in the same household, when it could have chosen to do so. It also did not provide direction on how to otherwise determine when an individual is providing “care” for another individual. Should we define what it means to “care for” another person or what it means to be “in the care of” another individual, and if so, what should that definition be? Is there a common understanding of what it means to “care for” or be “in the care” of another person? Has the meaning of “in the care of” or a comparable phrase been defined elsewhere in statute or regulation that could appropriately be used for reference in the present context?

10. Absent a common understanding or similar definition to reference, we believe that at a minimum, this phrase should be understood to encompass any individuals who are part of the same household, including adult children, as well as adults who are older, and those who are in the care of another individual by valid court order or power of attorney. To support this interpretation, we tentatively conclude that “household” should have the same meaning as it does in § 54.400 of our rules. We seek comment on our proposed interpretation. Is there any reason to conclude that Congress intended this phrase to be interpreted more narrowly, for example, to include only those under the age of 18 for whom an individual is the parent, guardian, or caretaker? We tentatively conclude that the Safe Connections Act contemplates that an individual who is the parent, guardian, or caretaker of a person over the age of 18 qualifies as someone who provides care for another person and, thus, as a “survivor” when a covered act is committed against the person for whom the individual cares. Do commenters agree, or does the Safe Connections Act contemplate that any such persons over the age of 18 would be considered “survivors” in their own right? Would interpreting the Safe Connections Act, and our rules, in any of the ways we have discussed narrow or broaden the applicability of the protections in a way not intended by Congress? If we conclude that certain persons over the age of 18 can qualify as being in the care of another individual, should we permit those persons to object to their line being separated following a line separation request by the “survivor” who cares for them? If so, what sort of notice or opportunity to object must covered providers give to these users? We seek comment on how best to interpret this statutory language so as to provide the protections that Congress intended for individuals who are victims of a covered act.

11. Abuser. We propose to define “abuser” for purposes of our rules as an individual who has committed or allegedly committed a covered act against (1) an individual who seeks relief under section 345 of the Communications Act and the Commission's implementing rules; or (2) an individual in the care of an individual who seeks relief under section 345 of the Communications Act and the Commission's implementing rules, mirroring the substance of the Safe Connections Act. We seek comment on our proposal. Can commenters identify any reason to depart from the statutory definition of “abuser”? We note that we do not intend our definition to serve as independent evidence of, or establish legal liability in regards to, any alleged crime or act of abuse, and propose to adopt this definition for purposes of implementing the Safe Connections Act only. We seek comment on this proposed approach.

12. Covered Provider. We propose to define “covered provider” as a provider of “a private mobile service or commercial mobile service, as those terms are defined in 47 U.S.C. 332(d),” consistent with the Safe Connections Act. We seek comment on our proposal. Section 332(d) defines “commercial mobile service” as “any mobile service (as defined in [47 U.S.C. 153]) that is provided for profit and makes interconnected service available (A) to the public or (B) to such classes of eligible users as to be effectively available to a substantial portion of the public, as specified by regulation by the Commission,” and defines “private mobile service” as “any mobile service (as defined in [47 U.S.C. 153]) that is not a commercial mobile service or the functional equivalent of a commercial mobile service, as specified by regulation by the Commission.”

13. We tentatively conclude that covered providers would include both facilities-based mobile network operators, as well as resellers/mobile virtual network operators. We seek comment on this tentative conclusion. We also seek comment on whether Congress intended the line separation obligation to apply to all providers of commercial mobile service or private mobile service, as the Commission might interpret and apply those definitions, regardless of underlying technology used to provide the service (e.g., whether provided through land, mobile, or satellite stations). We further seek comment on whether we should interpret the statutory definition of “covered provider” to include providers of mobile broadband service that do not also offer mobile voice service, and if so, whether implementation of the line separation obligation would differ for those providers. If so, how would it differ?

14. Shared Mobile Service Contract. We propose to define “shared mobile service contract” as a mobile service contract for an account that includes not less than two lines of service and does not include enterprise services offered by a covered provider. We seek comment on our proposal, which mirrors the Safe Connections Act's definition except insofar as it replaces the phrase “not less than 2 consumers” with “not less than two lines of service.” It is our understanding that mobile service contracts are typically structured around the number of lines of service associated with an account rather than the number of consumers. We invite comment on this proposal. We tentatively conclude that a “line” includes all of the services associated with that line under the shared mobile service contract, regardless of their classification, including voice, text, and data services, and we seek comment on this tentative conclusion. We also tentatively conclude that a “line of service” under a shared mobile service contract is one that is linked to a telephone number, even if the services provided over that line of service are not voice services. We seek comment on our analysis, and whether we should provide additional guidance on the bounds of “line of service” in implementing the Safe Connections Act.

15. If we do not interpret “consumers” to mean “lines,” as proposed, we seek comment on how providers would verify the number of consumers on an account. Would requiring covered providers to verify the number of consumers rather than the number of lines possibly hamper a survivor's ability to obtain a line separation? If we keep the statutory terminology of “consumers,” would there be additional privacy concerns, e.g., because covered providers would have to collect information about the additional consumers on shared mobile service contracts (including minors who may use the line) other than the primary account holder? How burdensome would such additional information collection requirements be for covered providers, particularly small providers?

16. We tentatively conclude that “shared mobile service contract” includes mobile service contracts for voice, text, and data services offered by covered providers, as well as both pre-paid and post-paid accounts, to the extent that a service contract exists. We seek comment on these tentative conclusions. Do covered providers offer pre-paid contracts for accounts that include at least two lines?

17. We observe that the definition of “shared mobile service contract” explicitly excludes “enterprise services.” We tentatively conclude that enterprise services generally entail those products or services specifically offered to entities to support and manage business operations, which may provide greater security, integration, support, or other features than are ordinarily available to mass market customers, and would exclude services marketed and sold on a standardized basis to residential customers and small businesses. Do commenters agree? We believe interpreting the exclusion for “enterprise services” in this way would address the needs of survivors who use a line on a shared mobile service contract that may be structured under a family-run small business or paid for by a business account owned by the abuser, for example. We seek comment on our approach, and whether we should define “enterprise services” differently to address the needs of survivors.

18. Primary Account Holder. We propose to define “primary account holder” as “an individual who is a party to a mobile service contract with a covered provider,” mirroring the definition in the Safe Connections Act. We seek comment on our proposal, and whether there are any considerations that should cause us to depart from the statutory definition. Are there situations in which there is more than a single individual who is party to a mobile service contract?

2. Requirement To Separate Lines Upon Request

19. Processing of Line Separation Requests. Consistent with the Safe Connections Act, for shared mobile service contracts under which a survivor and abuser each use a line, our proposed rule would require covered providers, not later than two business days after receiving a completed line separation request from a survivor, to (1) separate the line of the survivor, and the line of any individual in the care of the survivor, from the shared mobile service contract, or (2) separate the line of the abuser from the shared mobile service contract.

20. Because the Safe Connections Act requires covered providers to implement line separation requests from survivors for shared mobile service contracts “under which the survivor and the abuser each use a line,” we propose to interpret this statutory language to mean that neither the abuser nor the survivor needs to be the primary account holder for a line separation to be effectuated, regardless of whose line is separated from the account. We also believe that a person who does not use a line on an account—but is a “survivor” under the statute because the person is someone who cares for another individual against whom a covered act has been committed or allegedly committed—would be able to request a line separation because the definition of “survivor” allows that person to stand in for the individual in their care. Additionally, we also believe that the structure of the Safe Connections Act gives survivors discretion to request separation from the account of either the line of the survivor (and the lines of any individuals in the survivor's care) or the line of the abuser, but we seek comment on whether the covered provider also retains the discretion to determine whether to separate the line of the abuser or the line(s) of the survivor. We seek comment on our proposed interpretations, and on their potential implications and challenges. For instance, what implementation challenges will covered providers face, if any, if the survivor seeks to remove the abuser from the account but neither the survivor nor the abuser is the primary account holder? Do covered providers have existing processes to remove a primary account holder from an account and designate another user as the primary account holder, such as following the death of a primary account holder, that could be applied if the survivor seeks to remove the abuser from the account and the abuser is the primary account holder?

21. The Safe Connections Act requires covered providers, upon receiving a completed line separation request from a survivor, to separate the line of the survivor and the line of any individual in the care of the survivor. As with the definition of “survivor,” the Safe Connections Act does not explain how to determine who qualifies as “in the care of” the survivor for the purposes of line separation requests. We believe that we should adopt the same approach for making this determination as we do for interpreting the definition of “survivor.” Unlike the definition of “survivor,” however, we believe that for the purposes of line separation requests, an individual “in the care” of a survivor need not be someone against whom a covered act has been committed or allegedly committed. As previously discussed, the Safe Connections Act defines “survivor” as including an individual at least 18 years old who “cares for another individual against whom a covered act has been committed or allegedly committed,” but it requires covered providers to separate the lines of both the survivor and “any individual in the care of the survivor,” upon request of the survivor. We propose to interpret these provisions to mean that a covered provider must separate the lines, upon request, of any individuals in the care of survivors (however that is defined) without regard to whether a covered act has been committed or allegedly committed against the individuals in the care of the survivor. We seek comment on our proposed interpretation of these provisions.

22. Under the Safe Connections Act, covered providers must effectuate line separations not later than two business days after receiving a completed line separation request from a survivor. We tentatively conclude covered providers should have two full business days following the day the request was made to complete a line separation request, which aligns with the Commission's rules governing computation of time related to Commission actions. Should we adopt another meaning for what constitutes two business days, such as 48 hours from the time the request was made for requests made during business hours, and 48 hours from the start of the next business day for requests not made during business hours? Should we encourage covered providers to effectuate separations in less than two business days, if feasible? We seek comment on whether we should establish a time limit or other guidelines for how long covered providers have to determine whether a line separation request is incomplete. Because line separation requests may be time sensitive, we believe that, if feasible, covered providers should review requests to make this determination promptly, and ideally make this determination and either effectuate a line separation or reject an incomplete request within the two business day timeframe established by the statute. We believe this will enable survivors to quickly take steps to correct errors or submit a new request, if appropriate. Once a covered provider determines a request is complete and that there is no other basis for rejection, we believe the statute is clear that the provider has no more than two business days, however that is calculated, to effectuate the request, and we seek comment on this conclusion.

23. We also seek comment on the reasons covered providers may reject a request and what survivors can do upon receiving a rejection. At a minimum, we expect that covered providers may reject a request because the provider was unable to authenticate that the survivor is the user of the specified line, the request is missing required verification information or documentation, information or documentation submitted by the survivor is invalid, or the line separation is operationally or technically infeasible by the provider. We believe that any corrections, resubmissions, or selected alternatives for obtaining a line separation should be processed within the two-business-day timeframe established by the Safe Connections Act. We seek comment on how to balance our interest in allowing survivors to make repeated requests to obtain a line separation with our interest in preventing fraud on multiline shared accounts. Should we require covered providers to establish procedures for determining whether repeated requests are fraudulent and decline to effectuate line separations in those instances?

24. Operational and Technical Infeasibility. Under the Safe Connections Act, covered providers who cannot operationally or technically effectuate a line separation request are relieved of the obligation to effectuate line separation requests. Because this provision specifies that covered providers are only relieved of the “requirement to effectuate a line separation request,” we believe that all covered providers must offer the ability for survivors to submit requests for line separations described in the statute even if the provider may not be able to effectuate such separations in all instances. We seek comment on this interpretation.

25. We seek comment to understand what operational and technical limitations covered providers may face. We expect that many covered providers already have processes in place to effectuate line separations and seek comment on this belief. We tentatively conclude that any line separation a covered provider can complete within two business days under its existing capabilities, as those may change over time, would not be operationally or technically infeasible under the Safe Connections Act. We also believe that the Safe Connections Act requires covered providers to take all reasonable steps to effectuate any line separation requests they receive in accordance with the statute and the rules we adopt, and we seek comment on how we would determine whether the steps taken meet this standard. Must covered providers change their policies and procedures and invest in equipment and technology upgrades to be able to effectuate all or a greater number of line separations? Should we instead simply define what circumstances qualify as operational and technical limitations and require covered providers to take steps to effectuate line separations in all other circumstances? We seek comment on the potential approaches, including their costs and burdens on covered providers, including small providers. Regardless of any requirements we establish, we recognize that there may be instances when operational and technical limitations prevent covered providers from effectuating the types of line separations established by the Safe Connections Act or from doing so precisely as the statute and our rules require. We believe that in these instances, the Safe Connections Act requires covered providers to provide the survivor with alternatives to submitting a line separation request, including starting a new line of service. We also believe that in these circumstances, covered providers should offer, allow survivors to elect, and effectuate any alternative options that would allow survivors to obtain a line separation. For instance, some covered providers may not be able to separate an abuser's line from an account if the abuser is the primary account holder, but would be able to separate the survivor's line from the account. Likewise, some covered providers may be capable of processing line separation requests, but not in the middle of a billing cycle.

3. Submission of Line Separation Requests

26. Information Required to Process Line Separation Requests. The Safe Connections Act requires that survivors submit to covered providers certain information with their line separation requests, and we propose to codify those requirements in our rules. First, under our proposed rule, a survivor submitting a line separation request must expressly indicate that the survivor is requesting relief from the covered provider under section 345 of the Communications Act and our rules and identify each line that should be separated. In cases where a survivor is seeking separation of the survivor's line, the request must state that the survivor is the user of that specific line. In cases where a survivor is seeking separation of a line of an individual under the care of the survivor, the request must also include an affidavit setting forth that the individual is in the care of the survivor and is the user of that specific line. In support of efforts to deter fraud and abuse, we seek comment on whether we should mandate requirements for any affidavits that are submitted. At a minimum, we believe that affidavits should be signed and dated. Should they also be notarized? Can or must we rely on the alternative declaration mechanism provided for by 28 U.S.C. 1746? Should affidavits regarding individuals in the care of a survivor include the individual's name, relationship to the survivor, or other information? Are there privacy concerns with potentially requiring this additional information?

27. Consistent with the Safe Connections Act, we also tentatively conclude that when a survivor is instead requesting that a covered provider separate the line of the abuser from the shared mobile service contract, the line separation request should also state that the abuser is the user of that specific line. We seek comment on this tentative conclusion. Though not required under the Safe Connections Act, should we require that the line separation request include an affidavit that the abuser is the user of a specific line, rather than just a statement? We seek comment on whether covered providers need any other information to effectuate line separation requests. Commenters should address any privacy concerns from requiring such additional information.

28. Because the Safe Connections Act requires that covered providers “shall” separate the lines requested by a survivor after receiving a completed line separation request, we believe that this statutory language is best read as requiring the covered provider to complete the line separation as long as the request provides the information required by the Safe Connections Act and our implementing rules, and the line separation is operationally and technically feasible. In other words, we do not believe that the Safe Connections Act requires covered providers to take any steps to separately verify the legitimacy of the information provided; we seek comment, however, on whether the statute permits them to do so, and if so, what the implications are for both covered providers and survivors. We seek comment on our proposed interpretation of this provision. What would be the benefits and drawbacks of such an approach?

29. The Safe Connections Act does not address whether or how covered providers should authenticate the identity of a survivor to ensure that a person making a line separation request is actually a user of a line on the account. We recognize that unless a survivor is the primary account holder, covered providers may have limited information about the survivor and therefore fewer methods to authenticate the survivor's identity. We also appreciate that many survivors may not be in a position to supply government issued identification or other official identifying information to covered providers for authentication purposes. We are concerned that, absent any form of authentication, line separation requests could be easily abused by bad actors with significant consequences to consumers, similar to instances of subscriber identify module (SIM) swap and port-out fraud. We note, however, that in response to the Notice of Inquiry, some commenters argued that maximizing the ability of survivors to access any benefits the Commission establishes should supersede fraud and abuse concerns, at least absent evidence of widespread fraud or abuse. We seek comment on the appropriate balance between these two competing public interests.

30. We seek comment on whether we should require covered providers to authenticate the identity of a survivor to verify that the survivor is actually the user of a line on the account before processing a line separation request. When the survivor is the primary account holder or a user designated to have account authority by the primary account holder (designated user), we believe covered providers should authenticate survivors just as they would any other primary account holder or designated user, and we seek comment on this proposal. If the survivor is not the primary account holder or a designated user, we seek comment on whether we should designate the forms of authentication that are appropriate for covered providers to use for line separation requests, and if so, which forms of authentication we should designate. We believe in this particular context that SMS text-based and app-based authentications could be useful because they rely on the user having access to the device associated with the line. We also seek comment on whether call detail information could be a viable alternative in these circumstances because it requires knowledge of call history by the user. Are there other authentication methods that would be both feasible for survivors and secure? We observe that some comments received in response to our 2021 SIM Swap and Port-Out Fraud NPRM discussed security shortcomings of these and other authentication mechanisms, and several commenters in that proceeding urged us to give providers flexibility in deciding which forms of authentication to use to reduce costs and burdens and avoid creating a roadmap for bad actors. To what extent should the concerns raised in that proceeding guide our decision making here? Should we allow covered providers flexibility to determine which forms of authentication to offer? If so, should we require covered providers to offer multiple forms of authentication and give survivors the opportunity to authenticate using any method available? How burdensome would it be for covered providers if we were to require them to authenticate that survivors are users of a line on a shared mobile account, particularly for small providers? How burdensome would such a requirement be on survivors seeking line separation requests, and would such requirements be consistent with Congressional intent? Finally, we seek comment on how any authentication process we establish for line separations should intersect with any identity verification process survivors must undergo to access the designated program.

31. We recognize that covered providers may require additional information to assign the survivor as a primary account holder. Beyond the information already discussed, what information would covered providers need from survivors to establish them as primary account holders? We note that certain information, like full residential address, billing address, Social Security Number, and financial information can be extremely sensitive or difficult to provide for survivors that may be trying to physically and financially distance themselves from their abusers. Residential address information can be particularly problematic because survivors may not be residing at one location or have a fixed address, and if any address information is exposed, it may allow an abuser to locate a survivor. If a survivor is unable to provide all the information that is typically required to establish a primary account holder, should we require covered providers to modify the information necessary to accommodate survivors? If so, what information should we permit covered providers to require from survivors? If not, are there adequate alternative options for survivors to obtain needed communications services?

32. Additionally, although we appreciate that many survivors may have limited information about the abuser and the account associated with the mobile service contract, we seek comment on whether we should require survivors who are not the primary account holder to submit other information to ensure that line separations are being processed for the correct account and to minimize fraudulent line separations. We specifically seek comment on whether we should require survivors to submit one or more of the following pieces of information about the account or primary account holder even if the primary account holder is the abuser: account number, primary phone number associated with the account, zip code, address associated with the account, and PIN or password associated with the account.

33. Documentation Demonstrating Survivor Status. Consistent with the Safe Connections Act, our proposed rule would require survivors seeking a line separation to submit information that verifies that an individual who uses a line under the shared mobile service contract (i.e., an “abuser”) has committed or allegedly committed a covered act against the survivor or an individual in the survivor's care. To meet this requirement, survivors must submit one or more of the eligible documents prescribed in the Safe Connections Act: (1) a copy of a signed affidavit from a licensed medical or mental health care provider, licensed military medical or mental health care provider, licensed social worker, victim services provider, or licensed military victim services provider, or an employee of a court, acting within the scope of that person's employment; or (2) a copy of a police report, statements provided by police, including military police, to magistrates or judges, charging documents, protective or restraining orders, military protective orders, or any other official record that documents the covered act. At a minimum, we believe that the documentation provided should clearly indicate the name of the abuser and the name of the survivor and make an affirmative statement indicating that the abuser actually or allegedly committed an act that qualifies as a covered act against the survivor or an individual in the care of a survivor. Are there circumstances in which a survivor would not be able to obtain documentation that provides this information? Should we require that the documentation include any additional identifying information about the abuser or the survivor, such as an address or date of birth? What potential privacy implications would such a requirement raise, and would requiring such information be consistent with the Safe Connections Act? As a way to minimize fraud and abuse of the line separation process, we believe that, to the extent the documentation includes identifying information about the abuser or the survivor, covered providers should confirm that the information matches any comparable identifying information in the covered provider's records when processing a line separation request. We also seek comment on whether we should set requirements for the timeliness of evidence showing a covered act was committed. For instance, should we require that documentation be dated, or show the covered act occurred within a certain period prior to the request? If so, how long? We seek comment on these potential approaches and whether they are consistent with the Congressional intent of the Safe Connections Act.

34. We acknowledge that survivors may have difficulty securing the documents specified by the Safe Connections Act to demonstrate that an individual using a line on a shared mobile service contract has committed or allegedly committed a covered act, or doing so in a timely manner. In the Notice of Inquiry, we asked whether allowing survivors to submit an affidavit regarding their survivor status would provide sufficient verification and whether we should permit other options if a survivor cannot obtain the required documents. Some commenters expressed support for survivor affidavits and also argued that survivors should be permitted to submit affidavits from other qualified third parties not prescribed in the Safe Connections Act, such as shelters and advocacy organizations. Notwithstanding the foregoing, the Safe Connections Act, which was adopted by Congress after the Notice of Inquiry, clearly specifies the documents survivors can submit to demonstrate survivor status while specifically preserving the right of states to set less stringent requirements. We seek comment on whether the Safe Connections Act permits the Commission to establish other forms of verification that a survivor can submit, and if so, whether we should permit other forms of verification.

35. As discussed above, we believe that the Safe Connections Act is best read as requiring covered providers to complete a line separation as long as the line separation request provides the statutorily required information, without requiring covered providers to separately verify the information provided. We recognize that many covered providers may not have the expertise to determine the authenticity of such documents and that it would undermine the goals of the Safe Connections Act if a covered provider denied a line separation based on an incorrect determination that verification documents submitted by a survivor are not authentic. Nonetheless, we seek comment on whether and to what extent we should require or permit covered providers to validate the authenticity of any documents meant to verify survivor status that they receive in order to minimize the avenues that bad actors can use to commit fraud through the line separation process.

36. Finally, we propose to include in our rules the Safe Connections Act's proviso that section 345 of the Communications Act (establishing the line separation process) “shall not affect any law or regulation of a State providing communications protections for survivors (or any similar category of individuals) that has less stringent requirements for providing evidence of a covered act (or any similar category of conduct) than this subsection,” and seek comment on our proposal.

37. Election of the Manner of Communication from Covered Providers. Under the Safe Connections Act, a covered provider must “allow the survivor to elect in the manner in which the covered provider may—(i) contact the survivor, or designated representative of the survivor, in response to the request, if necessary; or (ii) notify the survivor, or designated representative of the survivor, of the inability of the covered provider to complete the line separation.” We propose to codify this requirement in our rules and seek comment on how best to understand it. We tentatively conclude that this requirement simply obligates covered providers to allow survivors to select, at the time they are submitting a line separation request, the manner the covered provider must use to communicate with a survivor after the survivor submits the request. We further believe that covered providers must ask survivors to provide the appropriate contact information with their request, and, if applicable, their designated representative. We seek comment on these tentative conclusions.

38. Confidential and Secure Treatment of Personal Information. We propose to require covered providers, including any officers, directors, and employees—as well as covered providers' vendors, agents, or contractors that receive or process line separation requests with the survivor's consent, or as needed to effectuate the request—to treat any information submitted by a survivor as part of a line separation request as confidential and securely dispose of the information not later than 90 days after receiving the information, consistent with the Safe Connections Act. Our proposal mirrors the Safe Connections Act, except that we propose to clarify that “vendor” as used in the Safe Connections Act includes “contractors” who may receive line separation requests in their provision of services to covered providers. We believe that this interpretation of “vendor” reflects the business practices of covered providers and will mitigate privacy risks to survivors. We seek comment on our proposal.

39. The Safe Connections Act requires confidential treatment and disposal of information submitted by a survivor “[n]otwithstanding section 222(c)(2)” of the Communications Act, which in turn requires telecommunications carriers to “disclose customer proprietary network information, upon affirmative written request by the customer, to any person designated by the customer.” The Communications Act defines “customer proprietary network information” (or CPNI) as “information that relates to the quantity, technical configuration, type, destination, location, and amount of use of a telecommunications service subscribed to by a customer of a telecommunications carrier, and that is made available to the carrier by the customer solely by virtue of the carrier-customer relationship,” and “information contained in the bills pertaining to telephone exchange service or telephone toll service received by a customer of a carrier,” but does not include subscriber list information. Thus, to the extent that any information a survivor submits as part of a line separation request would be considered CPNI, we believe the Safe Connections Act requires that such information (as well as information submitted by a survivor that would not be considered CPNI) should be treated confidentially and disposed of securely. We seek comment on our analysis. How should we implement the Safe Connections Act's requirement that information submitted by survivors be treated as confidential and be securely disposed of “[n]otwithstanding section 222(c)(2) of the [Communications] Act”?

40. We seek comment on how we should interpret the requirement that covered providers treat information submitted by survivors as “confidential,” and what requirements, if any, we should impose to ensure such information is disposed of “securely.” We are mindful that requiring and identifying specific data protection mechanisms can provide a roadmap to bad actors and may also be overtaken by new technological advancements. Given that, what guidance can we provide to covered providers as to what would be considered “confidential” treatment and “secure” disposal under the Safe Connections Act? At a minimum, we believe that treating such information as confidential means not disclosing or permitting access to such information except as to the individual survivor submitting the line separation request, anyone that the survivor specifically designates, or specific types of third parties (i.e., vendors, contractors, and agents) as needed to effectuate the request. Do commenters agree? Are there other specific actions we should require covered providers to take or not take to ensure that information remains confidential? For instance, should we require covered providers to maintain line separation request information in a separate database or restrict employee access to only those who need access to that information to effectuate the request? Should we require such information to be stored with encryption? Can we construe the obligation on providers to “treat” information submitted in connection with a line separation request as “confidential” to include an obligation not to use or process such information for certain purposes (e.g., marketing)? If so, what should be permissible purposes for the use or processing of such information, other than effectuating the request, if any? What mechanisms, if any, should we require covered providers to use to ensure that confidential information is disposed of securely? How burdensome would any such requirements be on covered providers, particularly small providers? Should unauthorized disclosure of, or access to, information submitted by survivors as part of a line separation request be considered evidence that a covered provider does not treat such information confidentially?

41. Consistent with the Safe Connections Act, we also propose to make clear that the requirement to securely dispose of information submitted by a survivor within 90 days does not prohibit a covered provider from maintaining a record that verifies that a survivor fulfilled the conditions of a line separation request for longer than 90 days. We believe that the best interpretation of this provision presumes that any such records will not contain any information submitted by survivors, which, as discussed, would be deemed confidential and subject to secure disposal within 90 days. Nonetheless, we propose that covered providers also treat such records as confidential and securely dispose of them. We seek comment on our proposals. Should we require covered providers to dispose of the records verifying the fulfillment of a line separation request within a certain timeframe, and if so, what would be an appropriate timeframe? Are there reasons why a covered provider, or a survivor, would need to retain such records of fulfilling the conditions of a line separation request, beyond their potential need for enrollment in the designated program providing emergency communications support?

42. Means for Submitting Line Separation Requests. The Safe Connections Act directs covered providers to “offer a survivor the ability to submit a line separation request . . . through secure remote means that are easily navigable, provided that remote options are commercially available and technically feasible.” We propose to codify this requirement in our rules and seek comment on how to implement it.

43. Although the Safe Connections Act does not define what constitutes “remote means,” we tentatively conclude that it is a mechanism for submitting a line separation request that does not require the survivor to interact in person with an employee of the covered provider at a physical location. We seek comment on this tentative conclusion. For example, we believe that requiring a visit to a brick and mortar store would not constitute remote means. Conversely, we believe that a form on a covered provider's website with the ability to input required information and attach necessary documents would constitute a remote means. We also believe that submissions via email, a form on a provider's mobile app, a chat feature on a provider's website, interactive voice response (IVR) phone calls, and postal mail would constitute remote means. Would a live telephone interaction, text message communication, or video chat with a customer service representative constitute remote means as contemplated by the Safe Connections Act? We seek comment on our proposed analysis of what constitutes remote means. In identifying permissible remote means, should we take into consideration whether the means are consistent with or similar to the means survivors must use to apply for the designated program discussed below to minimize the burdens on survivors? We note that any remote means must permit survivors to submit any necessary documentation, although we seek comment on whether covered providers should be able to offer means that allow or require survivors to initiate a request using one method (such as an IVR phone call) and submit the documentation through another method (such as via email). We also seek comment on whether we should require providers to accept documentation in any format, including, for example, pictures of documents or screenshots. In addition, we tentatively conclude that the Safe Connections Act would permit covered providers to offer survivors means that are not considered remote so long as the provider does not require survivors to use those non-remote means or make it harder for survivors to access remote means than to access non-remote means.

44. The Safe Connections Act requires covered providers to offer remote means for submitting line separation requests only if such means are “technically feasible” and “commercially available.” As a general matter, are there remote means for survivors to submit line separation requests that are technically feasible to implement and commercially available for all covered providers, including small providers? If so, which ones? If not, what steps must covered providers, including small providers, take to make remote means technically feasible or how long before they are commercially available? Relatedly, how long will it take covered providers to select, implement, test, and launch remote means for line separation requests, and how does that timeline differ depending on the potential requirements we discuss above? Can covered providers adopt or modify existing systems that they use in other aspects of their business to provide survivors the ability to submit remote requests? Additionally, what are the costs associated with this process and the varying alternative requirements, and do they differ for small providers?

45. The Safe Connections Act requires that the means of submission, in addition to being remote, must be “secure,” and we seek comment on the meaning of this term. We tentatively conclude that any means a covered provider offers survivors to submit a line separation request, including non-remote means, must be secure, and seek comment on our tentative conclusion. We believe that, at a minimum, secure means are those that prevent unauthorized access to or disclosure of the information and documentation submitted with the line separation request during the submission process. Should we define what would constitute “secure” in greater detail—and if so, how—or should we allow covered providers flexibility to adopt means they deem “secure”? Specifically, should we require that any electronic means of submission use encrypted transmission? Are there particular means that we should deem to be unsecure in all instances? As with the Commission's CPNI rules, should unauthorized disclosure of, or access to, information submitted as part of a line separation request be considered evidence that a covered provider does not provide a “secure” means of transmission?

46. The means of submitting a request must also be “easily navigable,” and we invite comment on the meaning of this phrase. As an initial matter, we tentatively conclude the means for submitting a request must be easily navigable for individuals with disabilities, and we seek comment on this tentative conclusion. Does easily navigable also mean that any user interface or forms related to line separation requests must be easy for survivors to comprehend and use? Does it also mean that any user interface or form must clearly identify the information and documentation that a survivor must include with their request and that survivors must be able to easily insert or attach that information? Should we develop and mandate a standardized form that covered providers must use or direct stakeholders to work together to develop such a form? Additionally, does the phrase “easily navigable” place an obligation on covered providers to make the means of making a line separation request easily findable and accessible by survivors?

47. We seek comment on whether we should adopt additional requirements concerning the mechanisms for submitting line separation requests to ensure that all survivors have the ability to submit such requests and can obtain line separation in a timely manner. To what extent should covered providers be required to make available remote means that are accessible to individuals with disabilities? Does the Twenty-First Century Communications and Video Accessibility Act (CVAA) already require that all or certain means for submitting line separation requests be accessible for individuals with disabilities? To what extent should the means through which a covered provider permits survivors to submit line separation requests be made available in the languages in which a covered provider advertises its services? Should the means covered providers make available for submitting line separation requests ask survivors for their preferred language from among those in which the covered provider advertises? Additionally, we invite feedback on whether we should require covered providers to offer more than one means to submit a line separation request and ensure any such additional means address the needs of survivors who may be using different technologies or who may have different levels of digital literacy. Alternatively, should we designate one specific mean or process that all covered providers must offer to fulfill these obligations, such as a form on the provider's website, but also allow covered providers to offer other additional means or processes if they so choose? We seek comment on how costly and burdensome any such requirements would be for covered providers, particularly small providers.

48. Given the difficult circumstances that survivors may be experiencing at the time they make a line separation request, we believe that providers should make it easy for survivors to choose the best communications service offerings for their needs. Accordingly, we seek comment on whether we should require covered providers to allow survivors to indicate their service choices when they are submitting a line separation request. If so, we seek comment on what constitutes the full scope of service options covered providers should be required to offer to survivors, but tentatively conclude that the Safe Connections Act makes clear that survivors can seek to: (1) start a new line of service; (2) keep the existing service plan, with the abuser's line separated from the account; (3) select a new plan from among all commercially available plans the covered provider offers for which the survivor may be eligible, including any prepaid plans; (4) obtain benefits through the designated program if available through the provider; (5) switch providers by porting the lines of the survivor and anyone on the survivor's account to a new provider selected by the survivor, if technically feasible; and (6) move the line to an existing account of another person with service from the covered provider. What are the pros and cons of our proposed approach? For example, would this requirement maximize the simplicity for survivors navigating the line separation process? Conversely, how burdensome would this requirement be on covered providers, particularly small providers? Are there commercially available tools that would allow covered providers to implement this requirement? Is such a requirement otherwise technically feasible?

49. Assistance with Completing Line Separation Requests. While the Safe Connections Act requires covered providers to effectuate line separations after receiving a completed line separation request from a survivor, we observe that it permits survivors to indicate a designated representative for communications regarding line separation requests. Does the Safe Connections Act permit survivors to rely on assistance from their designated representative or other individuals, such as employees of victim service providers, to prepare and submit line separation requests? If not, why not, and practically speaking, how would covered providers know whether a survivor relied on such assistance? If the Safe Connections Act does allow such assistance, should we establish guidelines regarding this practice? For example, should we require those assisting survivors to include in the request their name and relationship to the survivor, along with a statement that the person assisted the survivor? If so, should we require providers to request this information through the means they make available for survivors to submit requests? What would be the costs to covered providers of any such requirements, particularly for smaller providers?

4. Notices, Notifications, and Other Communications

50. We next seek comment on the types of information that must or should be communicated to survivors and other consumers, and on the ways covered providers may convey this information. We believe the Safe Connections Act contemplates three ways that covered providers may communicate information to survivors: (1) a notice that must be made readily available to all consumers through the covered providers' public-facing communication avenues, such a notice on a provider's website (Notice to Consumers); (2) information that must be provided at the time a survivor is submitting a line separation request, such as in the instructions for submitting a line separation request or on the form used for submitting a request (Concurrent Notice to Survivors); and (3) notifications that must be delivered to survivors after they submit a line separation request, such as in a confirmation email for the line separation submission or a later follow-up message regarding the status of the submission (Post-Request Notifications).

51. Notice to Consumers. Recognizing that the ability to separate a line from a shared mobile account will only assist those survivors who are aware of the option, the Safe Connections Act requires covered providers to “make information about the options and process” for a line separation request “readily available to consumers: (1) on the website and the mobile application of the provider; (2) in physical stores; and (3) in other forms of public-facing consumer communication.” We propose to adopt these requirements in our rules as a Notice to Consumers, and seek comment on our proposal and its implementation, including the burdens on covered providers.

52. We seek comment on the specific methods and processes covered providers should use to provide the Notice to Consumers, and on the costs and burdens associated with each of these proposed requirements, particularly for small providers. First, we seek comment on whether we should provide additional guidance to covered providers regarding how to make the notice readily available to consumers “on the website and mobile application of the provider.” For example, should we provide guidance regarding where and how this information should be made available on covered providers' websites and mobile applications? Should we specifically require covered providers to post a link to the notice on their website homepage or mobile application home screen? Would a prominent link under a “customer service” page or “support” section of a covered provider's website be “readily available”? Should we allow covered providers to determine the most appropriate method for making the notice available, as long as it is prominent and easy for consumers to locate?

53. Second, we seek comment on whether we should provide additional guidance to covered providers as to how they should make the Notice to Consumers readily available in “physical stores.” For example, does this language require covered providers to furnish information only upon consumer request? Or should we require covered providers to post prominent signage and/or have handouts explaining availability of the line separation option? At a minimum, we believe any flyers, signage, or other handouts should be clearly visible to consumers and easy to understand and access. We also tentatively conclude that covered providers should provide the notice in all languages in which the provider advertises within that particular store and on its website, and seek comment on this tentative conclusion.

54. Third, we seek comment on how covered providers should implement the requirement to provide the Notice to Consumers through “other forms of public-facing consumer communication.” What other forms of public-facing communication do covered providers employ? Would covered provider bills, advertisements, emails, or social media accounts be covered under this category? If so, how should covered providers make the notice readily available through these avenues or other potential public awareness campaigns? We seek comment on what specific methods will be most effective in helping covered providers disseminate information to consumers about line separation availability.

55. We also seek comment on whether we should specify what information covered providers must include in the Notice to Consumers “about the options and process” for line separation requests or whether we should instead allow covered providers to determine what information to include. If we should prescribe the content of the notice, what information would be most useful to consumers? We tentatively conclude we should require covered providers to inform consumers that the Safe Connections Act does not permit covered providers to make a line separation conditional upon the imposition of penalties, fees, or other requirements or limitations, and seek comment on this tentative conclusion. Should we require covered providers to inform consumers about who qualifies as a survivor and how a survivor can request a line separation, or to explain any operational or technical limitations for completing line separation requests and alternative options survivors can choose to obtain a line separation? Should we require covered providers to inform consumers of the service options that may be available to them, or what their financial responsibilities will be after a line separation?

56. Although the Safe Connections Act does not require covered providers to include information regarding the designated program in the Notice to Consumers, we tentatively conclude that they should include at least basic information concerning the availability of the designated program in the notice. Given that the Safe Connections Act requires covered providers to give survivors more detailed information about the designated program upon receiving a line separation request, do commenters agree with this approach? As we noted in our Notice of Inquiry, “[s]urvivors often face severe financial hardship when attempting to establish financial independence from an abuser,” and concerns about affordability could hold back some survivors from separating their line from an abuser's. We believe that requiring covered providers to include information about the availability of emergency communications support to help with the costs of a separated line in the Notice to Consumers may make the difference for some survivors in choosing whether or not to pursue a line separation, is consistent with the goals of the Safe Connections Act, and would be minimally burdensome for covered providers. We seek comment on our tentative conclusions and proposed approach. Are there other materials or information about line separation requests that would be beneficial for covered providers to share with survivors concurrently with the Notice to Consumers?

57. Concurrent Notice to Survivors. The Safe Connections Act requires a covered provider to notify a survivor seeking a line separation “through remote means, provided that remote means are commercially available and technically feasible,” and “in clear and accessible language[,] that the covered provider may contact the survivor, or designated representative of the survivor, to confirm the line separation, or if the covered provider is unable to complete the line separation for any reason.” In addition to proposing that we codify this requirement in our rules, we seek comment on its meaning. We tentatively conclude that this requirement only establishes an obligation that a covered provider inform the survivor, at the time the survivor submits a line separation request, that the provider may contact the survivor, or the survivor's designated representative, to confirm the line separation or inform the survivor if the provider is unable to complete the line separation. We believe covered providers should inform survivors that the covered provider may contact the survivor as part of any instructional information provided at the time of a line separation request. To the extent feasible, we also believe this information should be provided proximate to the moment when the survivor is asked to provide contact information and elect the manner the provider must use for future communications. We believe that this approach will allow survivors to make an informed choice regarding which contact information and manner of communication is best given their particular circumstances. We seek comment on this tentative conclusion and approach. Is there any reason providers should instead provide this information to survivors in a Post-Request Notification? If yes, should we require that notification be delivered immediately upon submission of the request? Should we require providers to provide this information in both a Post-Request Notification and as a Concurrent Notice to Survivors? Regardless of how the information is delivered, should we allow or require covered providers to deliver it using the same means that the survivor used to submit the line separation request? Above, we tentatively conclude that covered providers may offer, and therefore that survivors may use, non-remote means to submit line separation requests. If a survivor submits a line separation request using non-remote means, does the statute allow us to, and should we, allow covered providers to deliver the required information via non-remote means, such as if the survivor consents, or must covered providers deliver the information via remote means?

58. Post-Request Notifications. As noted above, covered providers must allow survivors to select the manner in which a covered provider will communicate with the survivor about a submitted line separation request. We do not believe that covered providers must offer all manners of contact, but we do believe that covered providers must offer at least one manner of contact that is remote. Consistent with our tentative conclusion above regarding remote means of submitting line separation requests, we believe remote means of communication are those in which the covered provider does not require the survivor to interact in person with an employee of the provider at a physical location. We tentatively conclude that remote means of communication would include emails, text messages, pre-recorded voice calls, push notifications, in-app messages, and postal mail. We seek comment on this view. Are there other forms of communication that would qualify, such as live phone calls or video chats? We do not expect to prohibit covered providers from offering non-remote forms of communication. Given the potentially time-sensitive nature of line separation requests, we do not believe that covered providers should rely on communications methods that will not be delivered directly to survivors, such as notifications or messages that a survivor only may see upon logging into an online account. Additionally, we tentatively conclude that covered providers must deliver these communications in the survivor's preferred language if it is one in which the covered provider advertises. We seek comment on the costs associated with our proposed approach for covered providers, particularly for small providers.

59. The Safe Connections Act requires covered providers that receive a line separation request from a survivor to inform the survivor of the existence of the designated program that can provide emergency communications support to qualifying survivors suffering from financial hardship, who might qualify for the program, and how to participate in the program. We propose to codify this requirement and tentatively conclude that covered providers should have the flexibility to either provide this information in a Concurrent Notice to Survivors or a Post-Request Notification delivered immediately after a survivor submits a line separation request. We also seek comment on exactly what information covered providers must convey regarding the designated program. At a minimum, we expect that such material would specifically inform survivors that their participation in the designated program will be limited to six months unless they can qualify to participate in the designated program under the program's general eligibility requirements. We seek comment on whether we should direct the Universal Service Administrative Company (USAC), in coordination with the Wireline Competition Bureau (Bureau), to develop descriptions of the designated program and ways in which survivors might apply to the program, which we would share with covered providers to use for the required notice. What would be the costs to covered providers for these requirements, particularly for small providers?

60. We also propose to codify the requirement that a covered provider that cannot operationally or technically effectuate a line separation request must: (1) notify the survivor who submitted the request of that infeasibility, and (2) provide the survivor with information about other alternatives to submitting a line separation request, including starting a new line of service. We believe the statute clearly contemplates this will be delivered as a Post-Request Notification. We further believe that providers should explain, in this notification, the nature of the operational or technical limitations that are preventing the provider from completing the line separation as requested and any alternative options that would allow the survivor to obtain a line separation. We also believe that covered providers should be required to promptly notify survivors if a line separation request is rejected for any other reason. We seek comment on what information should be provided in rejection notifications, but at a minimum, we believe that covered providers should deliver a clear and concise notification that the request has been rejected with the basis for the rejection and information about how the survivor can either correct any issues, submit a new line separation request, or select alternative options to obtain a line separation, if available. The Safe Connections Act requires that covered providers deliver notifications regarding operational and technical infeasibility at the time of the request or for requests made using remote means, not later than two business days after the covered provider receives the request. We tentatively conclude that all rejection notifications should be delivered within the same timeframe. We further tentatively conclude that, if feasible, covered providers must deliver these notifications through the manner of communication selected by the survivor immediately after the covered provider receives the request. We seek comment on our proposed approach.

61. Finally, we seek comment on whether we should require covered providers to convey information to survivors regarding the service options that may be available to them in a Post-Request Notification, as a Concurrent Notice to Survivors, or both. We also seek comment on whether we should require covered providers to inform survivors that they can choose between keeping the devices associated with both their line and the lines of individuals in their care if they assume any payment obligations for those devices or obtaining other devices to use with the services. If so, we believe covered providers should be capable of explaining remaining financial obligations for the devices and the costs and payment options for new devices the covered provider offers. We also believe that, given the sensitive and challenging circumstances survivors may be experiencing, we should require covered providers to minimize their communications to survivors and prohibit communications that are not directly related to the line separation request, such as marketing and advertising communications that are not related to assisting survivors with understanding and selecting service options. Do commenters agree? Are there other valid, but unrelated, reasons for which a provider may need to contact the survivor?

62. Notification to Primary Account Holders and Abusers. The Safe Connections Act contemplates that primary account holders may be notified regarding successful line separations on their accounts, and we believe this notification is likely necessary in most instances, given associated account changes that will occur, including when the abuser is the primary account holder. We tentatively conclude that an abuser who is not the primary account holder must not be notified when the lines of a survivor and individuals in the care of the survivor are separated from a shared mobile service contract. At the same time, we believe it is likely the abuser must necessarily be notified, even if not the primary account holder, when the abuser's line is separated. We seek comment on our analysis here, and specifically on how we can best ensure that survivors are protected in instances when primary account holders and abusers whose lines are being separated must be informed about line separations. If a covered provider needs to notify a primary account holder or abuser whose lines will be separated, should we require them to set a uniform amount of time after receiving a line separation request in which they will provide the notice? Is it feasible to require covered providers to wait until they have approved and processed a line separation before informing primary account holders or abusers whose lines will be separated, or will covered providers need to communicate with them before that point to implement account changes? Will covered providers be able to process all necessary account and service plan changes as needed if we implement such delays? When necessary, how should primary account holders and abusers whose lines are separated be notified of any account and billing changes? Additionally, should we prescribe any particular content of these notifications? Is there any language or terms providers should avoid using when notifying primary account holders and abusers whose lines are separated?

63. Informing Survivors When Primary Account Holders and Abusers Will Receive Notification of Separations. We propose to codify the Safe Connections Act's requirement that covered providers inform survivors who separate a line from a shared mobile contract but are not the primary account holder of the date on which the covered provider intends to give any formal notification to the primary account holder, and also tentatively conclude that covered providers inform survivors when the covered provider will inform the abuser of a line separation involving the abuser's line. We seek comment on when covered providers must inform the survivor of the date the covered provider will notify the primary account holder and abuser (when the abuser's line is being separated). How soon before the primary account holder and abuser receive notification must the survivor be informed? Is there any language or terms providers should avoid using when notifying survivors?

5. Prohibited Practices in Connection With Line Separation Requests

64. Except as specifically provided, the Safe Connections Act prohibits covered providers from making line separations contingent on: (1) payment of a fee, penalty, or other charge; (2) maintaining contractual or billing responsibility of a separated line with the provider; (3) approval of separation by the primary account holder, if the primary account holder is not the survivor; (4) a prohibition or limitation, including payment of a fee, penalty, or other charge, on number portability, provided such portability is technically feasible, or a request to change phone numbers; (5) a prohibition or limitation on the separation of lines as a result of arrears accrued by the account; (6) an increase in the rate charged for the mobile service plan of the primary account holder with respect to service on any remaining line or lines; or (7) any other requirement or limitation not specifically permitted by the Safe Connections Act. We propose to codify these prohibitions and limitations in our rules, and seek comment on our proposal, as well as implementation of these prohibitions, as described below.

65. Fees, Penalties, and Other Charges. We believe that the Safe Connections Act's prohibition on making line separations contingent on payment of a fee, penalty, or other charge is unambiguous. We also believe this clause would prohibit covered providers from enforcing any contractual early termination fees that may be triggered by a line separation request, if the line separation request was made pursuant to section 345, regardless of whether a survivor continues to receive service from the provider as part of a new arrangement upon a line separation or completely ceases to receive service from the provider. We seek comment on our proposed interpretation and any burdens it may impose on covered providers.

66. Number Portability. We believe that the Safe Connections Act effectively prohibits covered providers from conditioning a line separation on the customer maintaining service with the provider, provided that such portability is technically feasible, and that this prohibition applies to any lines that remain on the original account and any lines that are separated. We propose to interpret this provision to mean that both the party that will remain associated with the existing account and the party that will be associated with the separated lines must be permitted to port their numbers at the time of the line separation or after, without fees or penalties, provided such portability is technically feasible. We seek comment on this view. Below, we discuss further the contours of technical feasibility of number porting within the confines of the Safe Connections Act.

67. Changing Phone Numbers. We seek comment on how best to interpret the Safe Connections Act's provision that prevents a covered provider from prohibiting or limiting a survivor's ability to request a phone number change as part of a line separation request. We note that as a general matter, survivors who are willing to change their phone numbers can start a new account and obtain a new number without having to go through the line separation process. Under what circumstances might a survivor want to both secure a line separation and change phone numbers, and are there any particular implications of those circumstances that we should address? For example, a survivor who is the primary account owner requesting separation of an abuser's line from the account might want to keep the account to maintain any promotional deals, complete device pay-off, or avoid early termination fees, but change a telephone number for safety reasons. We believe that this provision of the Safe Connections Act would bar covered providers from prohibiting such telephone number change requests or attaching a fee or penalty for doing so. We seek comment on this analysis, and any other circumstances which we should address.

68. Rate Increases. The Safe Connections Act prohibits covered providers from making a line separation request contingent on an increase in the rate charged for the mobile service plan of the primary account holder with respect to service on any remaining lines, but also provides that the prohibitions should not be construed “to require a covered provider to provide a rate plan for the primary account holder that is not otherwise commercially available.” To reconcile these two provisions, we make several tentative conclusions and seek comment on them. First, we believe the provision prohibiting covered providers from making a line separation contingent on a rate increase means that a covered provider cannot deny a survivor's line separation request if the primary account holder for the remaining lines does not agree to a rate increase. Second, we believe that provision also means that a covered provider cannot force the remaining primary account holder to switch to a service plan that has a higher rate, although the person may elect to switch to a rate plan that has a higher or lower rate from among those that are commercially available. Third, because the Safe Connections Act does not require covered providers to offer rate plans that are not otherwise commercially available, we believe covered providers are not required to offer survivors or remaining parties a specialized rate plan that is not commercially available if the party does not choose to continue the existing rate plan. Are there other ways to reconcile and interpret these two provisions? We do not read the Safe Connections Act to restrict covered providers from offering alternative rate plans to the party who remains associated with the original account. Additionally, we seek comment on whether we should require covered providers to provide rate plan options during the line separation process to the customer who remains associated with the existing account.

69. Contractual and Billing Responsibilities. We seek comment on the Safe Connections Act's prohibition on making a line separation contingent on “maintaining contractual or billing responsibility of a separated line with the [covered] provider.” Specifically, we believe this prohibition means that the party with the separated line must have the option to select any commercially available prepaid or non-contractual service plans offered by the covered provider, whether that party is a survivor or abuser. Likewise, we believe this prohibition would also prohibit a covered provider from requiring a survivor who separates a line from maintaining the same contract, including any specified contract length or terms, as the account from which those lines were separated (i.e., continuing a contract for the remainder of the time on the original account for the new account or requiring the survivor to maintain all previously-subscribed services (voice, text, data) under the new account). We also believe this provision can be interpreted as prohibiting covered providers from requiring that separated lines remain with that covered provider's service. This is consistent with our belief that the Safe Connections Act does not allow covered providers to charge early termination fees to survivors. We seek comment on these views.

70. Other Prohibited Restrictions and Limitations. Beyond the issues discussed above, do the prohibited restrictions and limitations in the Safe Connections Act contain any other ambiguities or raise other implications for covered providers that we should address? Additionally, although the Safe Connections Act includes a catch-all provision that prohibits covered providers from making line separations contingent on any other requirement or limitation not specifically permitted by the Safe Connections Act, we seek comment on whether we should specify any other requirements or limitations as prohibited in our rules. For example, should we specify that a covered provider must effectuate a SIM change sought in connection with a valid line separation request even if the primary account holder has activated account takeover protections for the account, such as a block on all SIM changes? Does the catch-all provision give sufficient direction to covered providers on what else is prohibited?

71. Provider Terms and Conditions. Given the general prohibition on restrictions and limitations for line separation requests, we seek comment on whether covered providers can require customers involved in line separations to comply with the general terms and conditions associated with using a covered provider's services, so long as those terms and conditions do not contain the enumerated prohibitions above and do not otherwise hinder a survivor from obtaining a line separation. If so, under what legal authority? Are there particular restrictions in existing terms and conditions that could be used to prevent line separations that we should explicitly prohibit in our rules? Are there other ways that providers can use their terms and conditions to hinder line separations? We note that this approach would permit covered providers to suspend or terminate the services on the existing and new accounts for violations of the provider's terms and conditions at any time after the line separation is completed.

72. Credit Checks. We also seek comment on whether the Safe Connections Act prohibits covered providers from making a line separation contingent on the results of a credit check or other proof of a party's ability to pay. We recognize that providers may currently require individuals to complete credit checks or demonstrate ability to pay to ensure that customers can meet their payment obligations for services and devices. However, we acknowledged in the Notice of Inquiry that some survivors may not be able to demonstrate their financial stability as a result of their abusive situation and therefore may be foreclosed from obtaining services—and the record supported this finding.

73. Although the designated program may allow some survivors experiencing financial hardship to obtain services without payment issues, we are concerned about situations where a survivor does not qualify for the designated program and also fails to meet the credit standards deemed acceptable by providers. To account for these circumstances, we tentatively conclude that we should specify in our rules that covered providers cannot make line separations contingent on the results of a credit check or other proof of a party's ability to pay. Consistent with the approach we took in the ACP Order, we would still permit covered providers to perform credit checks that are part of their routine sign-up process for all customers so long as they do not take the results of the credit check into account when determining whether they can effectuate a line separation. We also tentatively conclude that providers should be prohibited from relying on credit check results to determine the service plans from which a survivor is eligible to select and whether a survivor can take on the financial responsibilities for devices associated with lines used by the survivor or individuals in the care of the survivor. We seek comment on these tentative conclusions. We also seek comment on whether covered providers can use credit check results to determine which devices may be offered to a survivor for new purchases. We note that if we allow covered providers to require parties to comply with standard terms and conditions for services and devices, they would be able to enforce suspensions, terminations, or other remedies against customers for violating provisions described in those terms in conditions, such as failure to meet payment obligations.

74. If commenters believe that we should instead specify that covered providers should be permitted to rely on credit checks or other proof of payment capabilities in any of the circumstances described above, we ask commenters to describe how the Safe Connections Act provides us with the legal authority to do so, given its prohibition on making line separations contingent on “any other limitation or requirement listed under subsection (c)” of the Safe Connections Act. Additionally, if the Safe Connections Act permits covered providers to make line separations contingent on the result of a credit check or other proof of payment capabilities, should we require them to inform customers who fail to meet the provider's standards of other options, such as assistance through the designated program (if available), prepaid plans the provider might offer, and the ability to switch to another provider that may be able to accommodate the survivor? Are these alternatives adequate to provide survivors with communications services they need?

6. Financial Responsibilities and Account Billing Following Line Separations

75. The Safe Connections Act sets out requirements for financial responsibilities and account billing following line separations. Specifically, unless otherwise ordered by a court, when a survivor separates lines from a shared mobile service contract, the survivor must assume any financial responsibilities, including monthly service costs, for the transferred numbers beginning on the date when the lines are transferred. Survivors are not obligated to assume financial responsibility for mobile devices associated with those separated lines, unless the survivor purchased the mobile devices, affirmatively elects to maintain possession of the mobile devices, or is otherwise ordered to by a court. When an abuser's line is separated from an existing account, the survivor has no further financial responsibilities for the services and mobile device associated with the telephone number of that separated line. The statute also gives the Commission authority to establish additional rules concerning financial responsibilities and account billing following line separations. We propose to codify the statutory requirements and seek comment on any administrative challenges or other issues regarding billing and financial responsibilities that may arise from line separations that we should address.

76. We are particularly interested in learning how providers handle account billing issues following line separations they may perform now and whether the line separation requirements in the Safe Connections Act present new administrative challenges. We note that the Safe Connections Act requires covered providers to effectuate a line separation no later than two business days after receiving the request, meaning that account changes may need to occur in the middle of a billing cycle. If the Safe Connections Act requirements are different from providers' existing practices, how difficult would it be for providers to change their practices to meet the requirements? Are there particular challenges for smaller providers or those providers that may not conduct their own billing?

77. We recognize that there may be unique challenges with reassigning or separating contracts for device purchases. We believe the Safe Connections Act makes clear that, as a general matter, the individuals who purchased a device will maintain payment obligations for that device following a line separation. As the Safe Connections Act specifies, however, the survivor will take on the payment obligations for any devices the survivor elects to keep following separation of the survivor's line and the lines of those in the care of the survivor. We also believe it is clear that when an abuser's line is separated, the survivor is no longer responsible for the payment obligation for the device associated with that line. We tentatively conclude that if the abuser's line is separated and the abuser was the purchaser of any devices associated with lines that will remain on the account, the survivor can elect to keep those devices and take on the payment obligations for them. We seek comment on these proposed interpretations and the administrative challenges of implementing them. Do providers have the ability to reassign device payment contracts from one customer to another? We know anecdotally that some providers offer multi-device payment contracts, and these contracts often involve device discounts or associated service plan discounts. Some of the above separation scenarios may require splitting the payment obligations for devices that are on the same contract. Do providers have the ability to do this, especially in cases where the plan is no longer commercially available? How would they make adjustments to device or service plan discounts? Aside from reassigning or splitting contracts, does the Safe Connections Act allow covered providers to require the parties who are financially responsible for devices following separations to pay the full remaining balance of any devices or sign up for a new device payment plan at the time of the separation, or must they allow those parties to complete existing payment plans? We are particularly interested if this is permitted under the Safe Connections Act when it is the survivor taking on the payment obligation. Additionally, how would providers manage device payments when a line separation occurs midway through a billing cycle? Does the Safe Connections Act require them to prorate the payments?

78. Finally, we seek comment on how covered providers can manage previously-accrued arrears on an account following a line separation. We tentatively conclude that the arrears should stay with the primary account holder. For example, if the abuser's line is separated and the abuser was the primary account holder, the arrears would be reassigned to the abuser's new account. Similarly, if the survivor was the primary account holder and separates the abuser's line, the arrears would stay with the survivor's account. Conversely, if the survivor's line is separated and the abuser was the primary account holder, the arrears would stay with the abuser's account. Is this tentative conclusion administrable by covered providers?

7. Provider Obligations Related to Processing Line Separation Requests

79. In this section we seek comment on several topics concerning covered providers' obligations related to processing line separation requests.

80. Number Porting. Because the Safe Connections Act preserves survivors' ability to port their numbers in connection with line separation requests, we seek comment on the technical feasibility of such number ports. Generally, number portability allows consumers to keep their telephone numbers when they change carriers and remain in the same location. Under the Commission's current rules, wireless carriers must port numbers to other wireless carriers upon request without regard to proximity of the requesting carrier's switch to the porting-out carrier's switch, and must port numbers to wireline carriers within the number's originating rate center. We believe these same number porting obligations apply for lines that have been separated pursuant to section 345; we do not believe that there is anything unique about number ports associated with line separations that would make such ports more or less technically feasible than under other circumstances. Accordingly, we tentatively conclude that any ports that covered providers are currently required to, and technically capable of, completing would be technically feasible under the Safe Connections Act. We also tentatively conclude that should the requirements or capabilities for porting change in the future, any newly-feasible ports also will be considered technically feasible when sought in connection with a line separation. We seek comment on our analysis and tentative conclusions.

81. We separately seek comment on the operational feasibility of separating lines and porting numbers at the same time. Have providers developed procedures to handle this already? If not, how burdensome would it be to do so? Because customers typically initiate port requests through a new provider, would it be feasible for survivors to seek a line separation and number port at the same time? Currently, customers seeking to port a telephone number to a new wireless provider must provide the new provider with the telephone number, account number, ZIP code, and any passcode on the account. Many wireless providers also require customers to authenticate the port request through a port-out PIN. Is it feasible for a survivor to have this information to provide to a new carrier to request a port before a line separation request has been effectuated and a new account established for the survivor? If a survivor initiates a port request with a new provider, would that request remain pending and then be processed as soon as the line separation with the old provider is effectuated? Do we need to modify our number porting rules to permit these processes? For instance, because of the complexity of these port requests, would they fall outside the timelines for processing simple port requests established by the Commission and industry agreement? What additional administrative and survivor confidentiality challenges may arise for processing line separations and port requests if the survivor is also seeking to qualify for the designated program with the new provider?

82. We also seek comment on steps we can take to prevent port-out fraud. In the 2021 SIM Swap and Port-Out Fraud NPRM, we asked if we should require providers to authenticate customers through means other than the information used to validate simple port requests, such as through the use of a PIN established with their current provider, before effectuating a port-out request, and several commenters replied in the affirmative. Above, we ask if we should require covered providers to allow survivors to select whether they intend to port their numbers during the line separation process. If we do, should we also require covered providers to require survivors to establish a PIN or another authentication key used by the provider to process port-out requests if the survivor indicates the intent to port-out numbers?

83. Compliance with CPNI Protections and Other Law Enforcement Requirements. As discussed above, section 222 of the Communications Act obligates telecommunications carriers to protect the privacy and security of information about their customers to which they have access as a result of their unique position as network operators. Section 222(a) requires carriers to protect the confidentiality of proprietary information of and relating to their customers. Subject to certain exceptions, section 222(c)(1) provides that a carrier may use, disclose, or permit access to CPNI that it has received by virtue of its provision of a telecommunications service only: (1) as required by law; (2) with the customer's approval; or (3) in its provision of the telecommunications service from which such information is derived or its provision of services necessary to or used in the provision of such telecommunications service. The Commission's rules implementing section 222 are designed to ensure that telecommunications carriers establish effective safeguards to protect against unauthorized use or disclosure of CPNI. Among other things, the rules require carriers to appropriately authenticate customers seeking access to CPNI. Our CPNI rules define a “customer” as “a person or entity to which the telecommunications carrier is currently providing service.” Our rules also require carriers to take reasonable measures to both discover and protect against attempts to gain unauthorized access to CPNI and to notify customers immediately of certain account changes, including whenever a customer's password, response to a carrier-designed back-up means of authentication, online account, or address of record is created or changed.

84. In light of the protections afforded to CPNI by section 222 and our implementing rules, we seek comment on how we can design the line separation rules to preserve those protections. In particular, we seek to understand who is a “customer” under our rules with respect to plans with multiple lines or users and whether the answer to that question affects how CPNI on such accounts must be protected following a line separation. For instance, if the abuser is the primary account holder, and the abuser's line is separated from the existing account, should the covered provider prevent the new primary account holder from accessing any historical CPNI associated with the account? Should the primary account holder's historical CPNI move with the separated user to a new account? If a survivor who is not the primary account holder separates the survivor's line from a shared mobile service contract, should the historical CPNI from that line be moved over to the new account? Do covered providers have the technical capability to complete such moves? Are there other issues that may arise as a result of line separations concerning the protection of CPNI? For example, our rules require telecommunications carriers to notify customers “immediately” whenever a password, customer response to a back-up means of authentication for lost or forgotten passwords, online account, or address of record is created or changed. We tentatively conclude that this rule should not apply in cases where the changes are made as a result of a line separation request pursuant to section 345, as it would run counter to the intentions of the Safe Connections Act. We seek comment on our tentative conclusion.

85. Aside from CPNI, the Safe Connections Act requires us to consider the effect of line separations and any rules we adopt on any other legal or law enforcement requirements. We seek comment on what other legal or law enforcement requirements may by impacted by line separations or the rules and proposals we discuss in this NPRM and how we can ensure our rules align with those requirements.

86. Other Issues Related to Processing Requests. We seek comment on whether covered providers may face any other issues when processing line separation requests. For instance, would covered providers face administrative challenges if multiple survivors on an account each seek line separations at the same time? Are there any changes to processes that providers have to make with respect to the North America Numbering Plan and Reassigned Numbers Databases to comply with the Safe Connections Act's requirements? Would there be any issues if survivors choose to cancel their requests or submitted multiple requests in the same year? To what extent are any issues raised unique to the Safe Connections Act's requirements?

87. Provider Policies and Practices. Given the importance of line separation to survivors seeking to distance themselves from their abusers, we seek comment on the extent to which we should require covered providers to establish policies and practices to ensure that they process line separation requests effectively. At a minimum, we tentatively conclude that all employees who may interact with a survivor regarding a line separation must be trained on how to assist them or on how to direct them to employees who have received such training. What would be the burden on covered providers, particularly small providers, for any potential requirements we may adopt?

88. We also seek comment on what measures covered providers can take to detect and prevent fraud and abuse. Are there any particular requirements we should establish in the rules we adopt? Should we establish rules requiring covered providers to investigate and remediate fraud and abuse in a timely manner? Should we require providers to investigate cases where the primary account holder asserts that a line separation was fraudulent? Should providers create a process for primary account holders to report allegedly fraudulent line separations, and what course of action should providers take in response? What evidence is sufficient to show that a line separation was fraudulent, given the risk that an abuser may attempt to reverse a legitimate line separation by claiming it was fraudulent? How difficult will it be for covered providers to reverse line separations they discover were fraudulent?

89. Other Measures To Prevent Abusers from Controlling Survivors. We are concerned that if a survivor's abuser becomes aware that the survivor is seeking a line separation, the abuser may seek to prevent the line separation or preemptively cancel the line of service. We seek comment on steps covered providers can take to hinder those efforts. For example, should we require covered providers to lock an account to prevent all SIM changes, number ports, and line cancelations as soon as possible and no more than 12 hours after receiving a line separation request from a survivor, to prevent the abuser or other users from removing the survivor's access to the line before the request is processed? We also seek comment on whether we should require covered providers to keep records of SIM changes, number ports, and line cancelations and reverse or remediate any of those that were processed shortly before receiving a valid line separation request for numbers in the request, because the SIM change, number port, or cancelation could have been an attempt by an abuser to prevent a line separation. Would these requirements be technically and administratively feasible? If so, how much time prior to the line separation request should a SIM change, number port, or line cancelation be considered improper and subject to this remediation? Additionally, we seek comment on how covered providers should handle situations where an abuser contacts the covered provider to attempt to stop or reverse a line separation, such as by claiming the request is fraudulent. We tentatively conclude that covered providers should complete or maintain line separations and make a record of the complaint in the existing and new account in the event further evidence shows that the request was in fact fraudulent. What would be the burden on covered providers, particularly small providers, for implementing any of these requirements? Finally, we seek comment on what steps covered providers can take, if any, to remove or assist survivors with removing any spyware that an abuser may have installed on devices of the survivor or individuals in the survivor's care.

8. Implementation

90. Timeframe. We seek comment on the appropriate implementation timeframe for the requirements we propose in this NPRM to implement the new section 345. How long will covered providers need to implement the necessary technical and programmatic changes to comply with the requirements under section 345 and our proposed rules? What existing processes do covered providers have in place that would enable efficient implementation of our proposed rules? Are there challenges unique to small covered providers that may require a longer implementation period than larger covered providers? If so, how should we define “small” covered provider for these purposes? What would be an appropriate timeframe for small covered providers, balancing the costs and burdens with implementing our proposed rules against the critical public safety interests at stake for survivors?

91. Effective Date. The Safe Connections Act states that the line separation requirements in the statute “shall take effect 60 days after the date on which the Federal Communications Commission adopts the rules implementing” those requirements, and we propose to make final rules effective in accordance with that timeline. We note, however, that some of the rules to be adopted pursuant to this NPRM may require review by the Office of Management and Budget (OMB) prior to becoming effective under the Paperwork Reduction Act (PRA). While we believe the PRA provisions for emergency processing may facilitate harmonization of these statutory requirements, we seek comment on the implications of the Safe Connections Act's effective date provision for PRA review. Are there any steps we should take to preemptively address potential inconsistencies between OMB approval of final rules and the statutory effective date set forth in the Safe Connections Act?

92. Liability Protection. Under the Safe Connections Act, covered providers and their officers, directors, employees, vendors and agents are exempt from liability “for any claims deriving from an action taken or omission made with respect to compliance” with the Safe Connections Act and “the rules adopted to implement” the Safe Connections Act. Congress made clear, however, that nothing in that provision “shall limit the authority of the Commission to enforce [the Safe Connections Act] or any rules or regulations promulgated by the Commission pursuant to [the Safe Connections Act].” We seek comment on how, if at all, our rules should account for these provisions.

93. Enforcement. We seek comment on issues related to enforcement of the rules contemplated in this NPRM. Should the Commission adopt rules governing the enforcement of the specific requirements, or should the Commission employ the general enforcement mechanisms to impose monetary penalties on noncompliant service providers set forth in section 503 of the Communications Act, as well as in the Lifeline and ACP rules? Is there alternative authority for enforcement, such as derived from the Safe Connections Act, that we should consider? Given the potentially serious safety issues that could result from a covered provider's noncompliance with rules implementing the line separation obligations, we seek comment on appropriate, specific penalties that could be adopted to incentivize compliance with program requirements.

B. Ensuring the Privacy of Calls and Texts Messages to Domestic Abuse Hotlines

94. The Safe Connections Act directs us to consider whether and how to “establish, and update on a monthly basis, a central database of covered hotlines to be used by a covered provider or a wireline provider of voice service” and whether and how to “require a covered provider or a wireline provider of voice service to omit from consumer-facing logs of calls or text messages any records of calls or text messages to covered hotlines in [such a] central database, while maintaining internal records of those calls and messages.” Below, we propose to establish such a central database, but we begin our discussion of this provision of the statute by proposing to require covered providers to omit calls or text messages to the relevant hotlines and analyzing the scope of that obligation.

1. Creating an Obligation To Protect the Privacy of Calls and Text Messages to Hotlines

95. We propose to adopt a requirement that covered providers and wireline providers of voice service omit from consumer-facing logs of calls or text messages any records of calls or text messages to covered hotlines that appear in a central database, while maintaining internal records of those calls and text messages. Congress has found that “perpetrators of [sexual] violence and abuse . . . increasingly use technological and communications tools to exercise control over, monitor, and abuse their victims” and that “[s]afeguards within communications services can serve a role in preventing abuse and narrowing the digital divide experienced by survivors of abuse.” As discussed above, these findings are supported by, among other things, field work with domestic violence survivors demonstrating the risk of abusers' accessing domestic abuse survivors' digital footprint, particularly call logs. The NVRDC observed in response to our Notice of Inquiry how “[c]all and text records to and from covered organizations would likely tip off an abuser who is closely monitoring all communications.” We are concerned that survivors may be deterred by the threat of an abuser using access to call and text logs to determine whether the survivor is in the process of seeking help, seeking to report, or seeking to flee, particularly given the desire for survivors to maintain secrecy and privacy. We therefore tentatively conclude that protecting the privacy of calls and text messages to hotlines as described by the Safe Connections Act is in the public interest, and seek comment on this tentative conclusion.

96. The Safe Connections Act specifically requires the Commission to consider certain matters when determining whether to adopt a requirement for protecting the privacy of calls and text messages to hotlines. Specifically, section 5(b)(3)(B) of the Safe Connections Act requires us to consider the technical feasibility of such a requirement—that is, “the ability of a covered provider or a wireline provider of voice service to . . . identify logs that are consumer-facing . . . and . . . omit certain consumer-facing logs, while maintaining internal records of such calls and text messages,” as well as “any other factors associated with the implementation of [such requirements], including factors that may impact smaller providers.” Section 5(b)(3)(B) also requires us to consider “the ability of law enforcement agencies or survivors to access a log of calls or text messages in a criminal investigation or civil proceeding.”

97. Covered providers and wireline providers of voice service have the ability to identify consumer-facing call and text logs. In fact, many service providers openly promote the ability of consumers to access such logs, and we believe these providers should be able to identify, and withhold as necessary, the call and text log information. We seek comment on this belief and whether there are any operational or technical impediments to any covered providers or wireline providers of voice service selectively omitting calls and text messages from certain telephone numbers from call and text logs. We note that there is no discussion of such concerns in the record in response to the Notice of Inquiry and it would seem that whatever processes translate internal service provider data (such as call records) to the web page or billing output that consumers see can be programmed to also filter out certain records. Indeed, neither of the two trade associations representing substantially different segments of what would be covered providers and/or providers of wireline voice service raise insurmountable issues relating to selectively omitting calls and text messages from call and text logs.

98. Further, records of calls and text messages do not appear to exist solely in the form of call logs, but, rather, independent records—that is, some processing must be applied to the records to create call logs. As a result, we expect service providers should be able to maintain log records of calls and text messages that they omit from consumer-facing logs when such records are required for any criminal or civil enforcement proceeding—or for any other reason. As a safeguard, we propose to explicitly require service providers to maintain the internal records of calls and text messages omitted from consumer-facing logs. We seek comment on this approach.

99. We seek comment on our proposal and our consideration of the matters described in section 5(b)(3)(B) of the Safe Connections Act. Does the appearance of calls and text messages to hotlines in call and text logs indeed pose a risk to survivors and also sometimes deter use of hotlines? Is our tentative conclusion that it is possible for covered providers and wireline providers of voice service to omit certain call and text message records from consumer-facing logs while maintaining such call and text message records for other purposes, such as when a survivor or law enforcement needs access to them, correct? How expensive would establishing and maintaining such a system be? What level of effort would be required?

100. Do service providers using certain transmission technologies (wireless versus wireline, time division multiplexing versus Voice over internet Protocol, etc.) or of a certain size (such as smaller service providers) face unique challenges that we should consider? Are these concerns great enough to exempt certain service providers? We are concerned that creating a patchwork of service providers subject to requirements to protect the privacy of calls and text messages to hotlines may create confusion for survivors, who may not know if they can rely on the privacy of their calls and text messages to hotlines. Do commenters agree? If exemptions or extensions are necessary for some providers, how can we mitigate these concerns? If commenters believe that this can be done through service provider communications, we request that such commenters propose how such communications could be conducted in instances in which the survivor is not the primary account holder.

101. Are there any matters and considerations unique to protecting the privacy of text messages sent to hotlines? Due to the popularity of text messaging, we believe it reasonable to assume that some survivors seek to communicate with hotlines through such means, and we also believe that any requirements should apply equally to call and text logs. Several states, localities, and non-profits have created text messaging hotlines that allow survivors to more discreetly seek help in the event that making a phone call might jeopardize their safety. While not all covered hotlines will provide text messaging options for survivors of domestic violence, we believe that requiring service providers to omit text messages to hotlines from text logs will help protect and save survivors. We seek comment on our proposed analysis.

102. We also seek comment on whether we should establish exceptions pertaining to particular calls or text messages. If we were to create exceptions, how should survivors who may otherwise rely on the privacy of all calls and text messages to hotlines be made aware that certain calls and text messages may be disclosed in logs due to exceptions? How often are toll calls or usage-fee-inducing mobile calls and text messages made to hotlines? Are there any other potentially valid bases for exceptions based on particular calls and text messages and, if so, how should such exceptions be implemented?

2. Defining the Scope of the Obligation

103. How we define certain critical terms significantly affects which service providers are subject to any obligation to protect the privacy of calls and text messages to hotlines, the extent of such obligations, and to which hotlines the obligations apply. In addition to seeking comment on defining the following terms, are there any other terms that commenters believe we should define and, if so, how should we define them?

104. Covered Provider. We propose to apply the obligation to protect the privacy of calls and text messages to hotlines to all “covered provider(s),” as defined in the Safe Connections Act. Therefore, we propose to use the same definition of covered provider used for the purpose of applying line separation obligations under section 345 of the Communications Act, as added by the Safe Connections Act. Do commenters agree that this is the appropriate definition? If not, we invite commenters to suggest alternative definitions. If we create exceptions or delayed implementation for smaller covered providers, should this be reflected in our rules as an exception to the definition of covered provider or in another manner?

105. Voice Service. In addition to covered providers, we propose to apply the obligation to protect the privacy of calls and text messages to hotlines to all “wireline providers of voice service,” as suggested by the Safe Connections Act. We propose to base our definition of “voice service” on the definition in section 5 of the Safe Connections Act. That provision references section 4(a) of the TRACED Act, which defines “voice service” as “any service that is interconnected with the public switched telephone network and that furnishes voice communications to an end user using resources from the North American Numbering Plan,” including transmissions from facsimile machines and computers and “any service that requires internet protocol-compatible customer premises equipment . . . and permits out-bound calling, whether or not the service is one-way or two-way voice over internet protocol.” We note that the Commission has previously interpreted that provision of the TRACED Act when implementing that legislation's requirements and mirrored the definition established in the legislation in the Commission's rules. We seek comment on this proposal.

106. We tentatively conclude that we need not define the term “wireline provider” given what we consider to be its plain meaning when used in conjunction with “of voice service,” as we propose to define the latter term. Do commenters agree that the words “wireline provider” are sufficiently unambiguous to not require definition? If not, we request that such commenters suggest an appropriate definition. If we create exceptions or delayed implementation for smaller wireline providers of voice service, should this be reflected in our rules as an exception to the definition of “wireline provider of voice service,” or in another manner?

107. Other Potential Service Providers to Include. We seek comment on whether the public interest would be served by including providers of voice service that offer service using fixed wireless and fixed satellite service so that survivors have no doubt that when they call or text covered hotlines, their calls will not appear in call or text logs. Neither fixed wireless nor fixed satellite providers of voice service appear to be “covered providers” or “wireline providers of voice service.” The services that they provide are not Commercial Mobile Radio Service or Private Mobile Radio Service because they do not meet the definitions in the Communications Act, and, therefore, providers of such services are not “covered providers.” Further, neither of these services is a “wireline” service. Do commenters agree that neither fixed wireless nor fixed satellite providers are covered by the terms “covered provider” or “wireline provider of voice service” in the Safe Connections Act? Do commenters support including those types of providers in the obligation to protect the privacy of calls and text messages to hotlines? If so, under what authority might the Commission impose such an obligation? Are there unique burdens that imposing an obligation to protect the privacy of calls and text messages to hotlines would impose on fixed wireless and fixed satellite providers of voice service? If commenters support including these types of providers, we request suggestions for how to implement this broadened scope in our proposed rules. In addition, we tentatively conclude that intermediate providers would not be considered covered providers, consistent with the TRACED Act's definition of “voice service” and seek comment on this tentative conclusion. Do commenters believe there are additional types of providers that we should include?

108. Call. The Safe Connections Act does not define the term “call,” nor is it defined in the Communications Act. We propose to define a “call” as a voice service transmission, regardless of whether such transmission is completed. We believe that given the expansive definition of “voice service,” which we propose to define without regard to whether it be wireline or wireless, such term sufficiently captures the means by which survivors would use the public switched telephone network to reach covered hotlines. Although we suspect that only completed transmissions would appear on call logs, out of an abundance of caution, we propose to include completed and uncompleted transmissions in the definition of “call.” Do commenters agree with our proposed definition? Are there any transmissions handled by covered providers and providers of wireline voice service that we should consider to be “calls” that would be excluded from this definition?

109. Text Message. We propose to adopt the same definition of “text message” as given in the Safe Connections Act. Such term is defined in the legislation as having the same meaning as in section 227(e)(8) of the Communications Act, which is “a message consisting of text, images, sounds, or other information that is transmitted to or from a device that is identified as the receiving or transmitting device by means of a 10-digit telephone number” and includes short message service (SMS) and multimedia message service (MMS) messages. The definition explicitly excludes “message[s] sent over an IP-enabled messaging service to another user of the same messaging service” that do not otherwise meet the general definition, as well as “real-time, two-way voice or video communication.” When the Commission interpreted section 227(e)(8) for purposes of implementation, it adopted a rule that mirrors the statutory text. We believe that language is also appropriate for purposes of Safe Connections Act implementation and propose to adopt it. We seek comment on this proposal.

110. Covered Hotline. The Safe Connections Act defines the term “covered hotline” to mean “a hotline related to domestic violence, dating violence, sexual assault, stalking, sex trafficking, severe forms of trafficking in persons, or any other similar act.” We propose to adopt this definition in our rules, but believe that we should further clarify what constitutes a “hotline” and how much of the counseling services and information provided on the “hotline” must relate to “domestic violence, dating violence, sexual assault, stalking, sex trafficking, severe forms of trafficking in persons, or any other similar act[s]” for the “hotline” to be a “covered hotline.”

111. As an initial matter, we tentatively conclude that in providing these clarifications, we should strive to meet the broadest reasonable expectations of a survivor seeking to place calls and send text messages without fear that they will appear in logs. Do commenters agree with this general approach to the definition of “covered hotline”? Are there any disadvantages to being more rather than less inclusive in determining what is a “covered hotline”? Are there any entities that we should specifically exclude from our definition of “covered hotlines”? Are there any factors we need to consider that could lead us to conclude that the scope of “covered hotlines” should be less exhaustive?

112. Turning to the specific definition, to be a “covered hotline,” the service associated with the pertinent telephone number must be a “hotline,” a term not defined in the Safe Connections Act. Given the Safe Connections Act's definition of “covered hotline,” as well as the potential use of a central database of “covered hotlines” (calls and text messages to which would be omitted from logs of calls and texts), we believe it reasonable to interpret the term “hotline” generally to mean a telephone number on which counseling and information pertaining to a particular topic or topics is provided. We suspect, however, that certain telephone numbers may serve as “hotlines” and also be used for other purposes, such as the main telephone number for the organization providing the counseling and/or information service. Further, we tentatively conclude that telephone numbers should not be excluded from being “covered hotlines” because they do not serve exclusively as “hotlines.” Indeed, we believe that we can best achieve the goal of minimizing hotline hesitancy by interpreting “hotline” as broadly as possible, including telephone numbers on which an organization provides anything more than a de minimis amount of information and counseling and propose to use this standard as a component in our definition of “covered hotline.” Do commenters agree with this approach that we should not require that a telephone number serve exclusively as a “hotline”? Are there any other considerations associated with an expansive definition of “hotline” that we should consider?

113. We tentatively conclude that a “covered hotline” need not exclusively provide counseling and information to service domestic violence survivors because such a requirement would be overly restrictive and potentially exclude some hotlines that are providing essential services to domestic violence survivors. Thus, at least initially, we believe it is best to be as inclusive as possible and define as a “covered hotline” any hotline that provides counseling and information on topics described in the Safe Connections Act's definition of “covered hotline” as more than a de minimis portion of the hotlines' operations. Do commenters agree? Should we instead establish a percentage of the organization's services that need to be related to covered counseling for the hotline to be a covered hotline? If so, what percentage?

114. Given the novelty of overseeing a central database of covered hotlines, and to maximize the efficiency in resolving future matters of interpretation under these provisions of the Safe Connections Act, we also propose delegating to the Wireline Competition Bureau the task of providing further clarification, as necessary, of the scope and definition of “covered hotline.” We invite comment on this proposal.

115. Consumer-Facing Logs of Calls and Text Messages. The Safe Connections Act does not define the term “consumer-facing logs of calls or text messages.” In light of our goal of minimizing hotline hesitancy by preventing abusers from being made aware of survivors' calls and text messages to hotlines, we believe that we should define the term as broadly as possible. We propose to define such logs as any means by which a service provider presents to a consumer a listing of telephone numbers to which calls or text messages were directed, regardless of, for example, the medium used (such as by paper, online listing, or electronic file), whether the calls were completed or the text messages were successfully delivered, whether part of a bill or otherwise, and whether requested by the consumer or otherwise provided. In addition, our proposed definition includes oral disclosures (likely through customer service representatives) and written disclosures by service providers of individual call or text message records. For avoidance of doubt, we propose to exclude from this definition any logs of calls or text messages stored on consumers' wireless devices or wireline telephones, such as recent calls stored in the mobile device's phone app or lists of recently dialed numbers on cordless wireline handsets. We seek comment on our proposed definition. Does it provide sufficient specificity for service providers to implement our proposed rules?

3. Creating and Maintaining the Central Database of Hotlines

116. The Safe Connections Act directs the Commission to begin a rulemaking no later than 180 days after its enactment to consider whether and how to establish a central database of hotlines related to domestic violence, dating violence, stalking, sexual assault, human trafficking, and other related crimes that could be updated monthly and used by a mobile service provider or a wireline provider of voice service to omit the records of calls or text messages to such hotlines from consumer-facing logs of calls or text messages. We satisfy this obligation by seeking comment here on whether and how to establish such a central database of covered hotlines. We propose to establish a central database of covered hotlines that would be updated monthly. We believe that a central database would provide certainty as to which records are to be suppressed, thus fulfilling the Safe Connections Act's objective to protect survivors while making clear service providers' compliance obligations. We seek comment on this proposal and ask, as a general matter, whether commenters agree that we should establish a central database as part of our efforts to protect the privacy of calls and text messages to covered hotlines. Are there any reasons not to create a central database of covered hotlines? Are there any current lists or existing repositories of hotlines maintained by national organizations seeking to end domestic violence that could provide the foundation for such a database?

117. We next explore the issue of who should administer this database. Should the Commission? Alternatively, should a third party serve as the central database administrator (in which case all policy decisions would continue to be made by the Commission)? What are the advantages and disadvantages of each option? If we were to use a third party as the database administrator, how should it be selected? Are there any special requirements that the Commission should seek in a database administrator? What entities have the expertise needed to be the administrator of such a database? Do commenters have any suggestions for the particular manner in which the Commission would oversee the administrator of the database?

118. We also seek comment on the scope of the database administrator's role and responsibilities. Should the database administrator be responsible not only for operating the central database, but also for initially populating the central database? We expect it would be more efficient to have a single entity populate the database initially and also take responsibility for updating the entries in the database periodically. If the database administrator will not be responsible for initially populating the database, how should the Commission establish and populate the system? How should the initial set of covered hotlines be identified and information about them collected for the central database? Would it be necessary to create an entirely new database or would it be possible to expand or modify an existing database? What role should operators of covered hotlines play in ensuring their inclusion in the central database, as well as the accuracy of their information? Should individual hotline operators be permitted to list multiple numbers in the central database? How should the Commission and the database administrator work with hotline operators? Should the database administrator accept submissions of hotlines from third parties, presumably followed by verification with the hotline operator?

119. What steps should the Commission and database administrator take to maximize the comprehensiveness and accuracy of the central database both initially and after it is established? We believe one significant step would be making certain fields of the central database public. At present, we expect the central database to include the name of the hotline, its telephone number, a contact name (and telephone number), and an address. We propose to make publicly available the names of the covered hotlines and their telephone numbers, as well as any location information that a covered hotline may elect to make available, such as any geographic area in which they concentrate their efforts, but we invite commenters to address whether there are other permissible disclosures of contact information under the Privacy Act System of Record Notice (SORN) governing our use and disclosure of contact information that should be restricted given the unique equities here, to preserve that information as confidential. We believe that it will substantially improve the accuracy of the list because the public, including interested support organizations, will be able to inspect it and report any invalid numbers and/or information listed. This will have the additional benefit of allowing for a means by which a survivor who is hesitant about calling a covered hotline can check the list to determine whether the number they plan to call or text message will indeed be omitted. Because a hotline needs its telephone number to be public for the hotline to be effective, we envision few potential disadvantages of making the central database of covered hotlines public. Do commenters agree that we should make the central database public in the manner discussed above? Are there further advantages? Are there any significant disadvantages? If we do make the central database of covered hotlines public, should we permit operators of hotlines to include location information other than street address, such as city, part of a state, state, etc., if they wish to do so? Are there any other steps that can be taken to maximize the comprehensiveness and accuracy of the central database both initially and after it is established?

120. Once a potential covered hotline has been identified, what process should be used for determining whether a hotline is a covered hotline? Should we require a self-certification by the operator of the hotline? Should the database administrator conduct additional research? Should we require operators of hotlines to demonstrate or at least certify that they meet the definition of a covered hotline? We invite commenters to identify such considerations and also propose solutions.

121. Central Database Updates. The Safe Connections Act directs the Commission to consider whether and how to “. . . update on a monthly basis, [the] central database of covered hotlines to be used by a covered provider or a wireline provider of voice service.” We propose for the central database to be updated monthly to keep up with the dynamic nature of support networks for survivors. Do commenters agree?

122. With regard to hotlines already in the central database, we propose that it be the responsibility of the hotline operators to notify the database administrator of any changes to their information, including the telephone number for the hotline. Under our proposal, the database administrator would also take update submissions from third parties, subject to verification with the hotline operator. We further propose that the database administrator should conduct an annual outreach campaign to hotline operators requesting that they confirm the accuracy of their current information. Should part of the updating process include routine certifications and, if so, how frequently? Over time, should organizations be automatically removed from the central database if they do not recertify their applications? Do commenters agree with these proposals regarding updating information already contained in the central database?

123. We expect the process of adding additional hotlines to the central database to be different from initially creating the database because, for example, it may not be practical for the Commission to issue a formal call for submissions to the database on a monthly basis. How should new candidates for inclusion in the central database be identified? Should the database administrator be tasked with performing routine checks for new hotlines? Are there feasible means of doing so? How often should this be done? We propose that the database administrator routinely accept submissions of covered hotline information both from their operators and third parties, the latter subject to whatever verification process we may establish for the initial creation of the central database. Do commenters agree with these proposals? What other steps could the Commission and the database administrator take to continue to monitor for potential additions to the central database of covered hotlines?

124. Funding of the Central Database. Section 5(b)(3) of the Safe Connections Act does not identify an appropriation to fund the maintenance and operation of the central database. In light of this, how should this central database be funded? Is there a legal basis to use cost recovery from all telecommunications and interconnected VoIP service providers using revenue or some other indicia, similar to the Universal Service Fund and funding for the North American Numbering Plan? What authority would the Commission rely upon to use a cost recovery support mechanism for the central database? If a cost recovery scheme based on revenue is considered, what revenue base should be used? How often should assessments be made? Who should bill and collect for such assessments and what process should we use to select this entity? If the central database's creation and operations are not funded through an assessment based on service provider revenue, what alternative do commenters recommend? Commenters should address whether any proposed funding scheme presents Miscellaneous Receipts Act or Anti-Deficiency Act concerns? Does the Safe Connections Act contemplate (and permit) the Commission to establish rules pertaining to use of the database, but defer actual creation of the database until we can request and receive specific funding? If so, should we, in fact, defer actual creation of the database in such a manner? We seek comment on how the database should be funded at initial implementation and on an ongoing basis given the Safe Connections Act's requirement that this database be updated monthly.

4. Using the Central Database of Hotlines

125. Under our proposal and consistent with the Safe Connections Act, the central database of covered hotlines will serve as the source of covered hotlines to which calls and text messages must be omitted from consumer-facing logs. We seek comment on how the required use of the central database should be operationalized in our rules.

126. As an initial matter, we propose that service providers be responsible for downloading the central database themselves in light of our proposal to make it public on a website to be maintained by the database administrator. This version of the central database would include only the organization name and telephone number(s) (omitting addresses and contact information) and would be available in an easily downloadable and widely used format, such as a delimited text file. We tentatively conclude that the administrative burdens on service providers under such a system would be minimal. We seek comment on this proposal. If commenters disagree with our proposal to make the central database publicly available, and, thus, downloadable by service providers from a public website, we request proposals for how we should control access to the central database.

127. We seek comment on an appropriate amount of time following adoption of rules by which service providers should be required to comply with the obligation to protect the privacy of calls and text messages to hotlines. Should we factor in potential unique challenges that certain providers (such as those using certain technologies or those of a certain size) may face when establishing a compliance date? Should the compliance deadline vary by the type of service provider, such as by allowing smaller providers more time to comply? If so, how should we determine the service providers that should be given more time and how much more time should be provided? Are there any disadvantages to providing certain service providers a later compliance deadline, such as potentially creating confusion for survivors in not knowing when their particular service provider will begin complying? Are there ways to mitigate these concerns?

128. Should we establish a minimum frequency for service providers to download updates to the central database? Section 5(b)(3)(D) of the Safe Connections Act, which provides a safe harbor defense in court actions if “a covered provider updates its own databases to match the central database not less frequently than once every 30 days,” affect our requirements in this regard? Should we establish 30 days as the minimum frequency at which service providers must download updates? Would downloaded central database updates be immediately implemented in service provider systems? For example, do service providers expect to need to test updates? If so, how should our rules account for this, considering that survivors may expect updates to be implemented relatively quickly? Should we establish a maximum period of time between when the administrator makes an update available and when such an update is implemented in service providers' systems?

129. What measures should we take to ensure and determine compliance by service providers with any rules that we might adopt for protecting the privacy of calls and text messages to hotlines? Should we require regular certifications and, if so, how frequently? Should we establish specific penalties for failure by service providers to comply with any rules protecting the privacy of calls and text messages to hotlines? If so, what should they be? Are there any other aspects of a compliance framework that we should establish?

130. Are there any potential inconsistencies between the rules that we might adopt to ensure the privacy of calls and text messages to hotlines and other Commission rules or state regulations? For example, would omitting toll calls that incur separate charges from consumers' bills conflict with our truth-in-billing rules? Are there any other potential inconsistencies? Should we explicitly resolve them and, if so, how? What role might disclaimers issued by service providers play?

131. We seek comment on the Commission's legal authority to adopt rules to establish, and update on a monthly basis, a central database of covered hotlines and to require covered providers and wireline providers of voice service to omit from consumer-facing logs of calls or text messages any records of calls or text messages to covered hotlines that appear in such central database, while maintaining internal records of those calls and messages. We tentatively conclude that Congress directing the Commission to consider how to adopt rules for these purposes inherently grants the Commission the legal authority to adopt such rules. We seek comment on this tentative conclusion. Further, we seek comment on other potential sources of legal authority for the adoption of such rules, such as Title I (via ancillary authority) and section 201(b) of the Communications Act, perhaps in conjunction with the Commission's purpose under section 1 of the Communications Act to promote “safety of life” and Title III (sections 301, 303, 307, 309, or 316).

132. Are there any other issues that commenters believe we should consider with regard to section 5(b)(3) of the Safe Connections Act? We invite commenters to identify and comment on any other issues relating to a service provider's ability and obligation to protect the privacy of calls and text messages to hotlines, the scope of such obligations, creating and maintaining the central database of hotlines, and how service providers should be obligated to use such central database.

C. Emergency Communications Support for Survivors

1. The Designated Program for Emergency Communications Support

133. The Safe Connections Act requires the Commission to designate either the Lifeline program or the Affordable Connectivity Program (ACP) to provide emergency communications support to qualifying survivors suffering from financial hardship, regardless of whether the survivor might otherwise meet the designated program's eligibility requirements. While “emergency communications support” is not defined by the Safe Connections Act, we construe the Act's references to emergency communications support to be the time-limited support offered to survivors suffering financial hardship through the designated program. The ACP provides funds for an affordable connectivity benefit consisting of up to a $30 per month standard discount on the price of broadband internet access services that participating providers supply to eligible households and an enhanced discount of up to $75 for ACP households residing on qualifying Tribal lands. The ACP benefit can be applied to any internet service offering of a participating provider, including bundles containing mobile voice, SMS, and broadband. The Lifeline program is one of the Commission's long-standing Universal Service Fund programs, providing a benefit of up to a base $9.25 per month for a discount on the price of voice and broadband service provided by eligible telecommunications carriers (ETCs). Households participating in Lifeline that reside on qualifying Tribal lands are also eligible to receive an additional discount of up to $25.

134. We seek comment on which program, Lifeline or ACP, to designate to provide emergency communications support to survivors in accordance with the Safe Connections Act. The Lifeline program allows participants to receive support for broadband service, bundled service, or voice-only service. As with Lifeline, ACP offers support for broadband and broadband service bundled with voice and/or text messaging, but it does not offer the flexibility to apply the benefit to voice-only service. While the ACP offers a greater reimbursement amount for program participants receiving broadband or bundled service we understand that offering support for a voice option is critical for survivors, and the Safe Connections Act is particularly focused on the ability of survivors to establish voice connections independent from their abusers. Additionally, the ACP relies on an appropriated fund in a definite amount, whereas the Lifeline program is funded by the Universal Service Fund, which is a permanent indefinite appropriation. What are the benefits and limitations of choosing Lifeline as the designated program? What are the benefits and limitations of choosing the ACP as the designated program? If we decide to designate the ACP to provide emergency communications support, how should we handle the potential wind-down of the program?

135. If the Commission selects Lifeline as the designated program, to ensure the maximum financial assistance available to survivors, we seek comment on whether we have authority under the Safe Connections Act to allow qualifying survivors enrolled in Lifeline through this pathway provided by the Safe Connections Act to use that enrollment in Lifeline to also enroll in ACP. Just as with the Consolidated Appropriations Act that established the Emergency Broadband Benefit Program, the Infrastructure Act directs that a household qualifies for ACP if it meets the qualification for participation in Lifeline. Under the Commission's rules, households that are enrolled in Lifeline can enroll in ACP without needing to complete an ACP application. However, the ACP's statute ties qualification for the program to the specific eligibility criteria of the Lifeline program. If Lifeline is the designated program for survivors, should survivors who only have access to the Lifeline program through their status under the Safe Connections Act be permitted to use their Lifeline participation to also enroll in the ACP? If we were to modify the eligibility requirements of the Lifeline program to allow survivors to enter the program with a more expansive set of criteria, would that address any concerns with the ACP statute's requirements and allow survivors to participate in both programs? If such survivors were permitted to participate in the ACP, should their ACP participation also be limited to the six months contemplated by the Safe Connections Act? What modifications to current ACP enrollment processes for current Lifeline subscribers should we consider if we implement this ACP enrollment pathway?

136. Additionally, we seek comment on ways that we might be able to enhance the designated program to best serve survivors enrolling pursuant to the Safe Connections Act. For instance, the Lifeline program currently allows for base reimbursement of qualifying voice-only plans up to $5.25 and qualifying broadband or bundled plans are eligible to receive up to $9.25 in Lifeline support. Recognizing the critical role that voice service plays in the lives of survivors, would it be appropriate to allow providers serving qualifying survivors to provide discounts of, and claim reimbursement for, up to $9.25, the full Lifeline reimbursement, even for voice-only service plans? We note that section 5(b)(2)(A)(ii)(II) of the Safe Connections Act directs the Commission to adopt rules that allow a survivor who is suffering from financial hardship and meets the requirements of section 345(c)(1) to enroll in the designated program as quickly as feasible and to “participate in the designated program based on such qualifications for not more than 6 months.” We construe the directive to allow relevant survivors to “participate” in the designated program to mean, among other things, that those survivors can receive the full subsidy currently available under the designated program for up to six months. We seek comment on this view. If this were permitted, how should USAC allow service providers to make such claims while ensuring survivors' privacy? If we select Lifeline as the designated program, how might the contribution factor be impacted by an increase in support for voice-only service, even for a limited population, to ensure sufficient support benefits for survivors through the Universal Service Fund? We also note that the Safe Connections Act does not explicitly discuss survivors' access to the designated program's enhanced benefit for residents of Tribal lands. However, the enhanced benefit for Tribal lands is an established component of the “federal Lifeline support amount” and “affordable connectivity benefit support amount” as established by the Commission's rules. Therefore, we tentatively conclude that survivors who would otherwise be eligible for emergency communications support under the Safe Connections Act and reside on qualifying Tribal lands will also be able to receive the designated program's enhanced Tribal benefit. What are the benefits or drawbacks associated with allowing survivors to qualify for the Tribal enhanced benefit?

137. Providers in the Lifeline program must be designated ETCs by state regulatory agencies or, where a state declines this responsibility, by the Commission. For the ACP, participating providers are limited to providers of “broadband internet access service”. These requirements are more limiting than the broader definition of “covered providers” contemplated by the Safe Connections Act. While Congress clearly instructed the Commission to designate either the Lifeline program or ACP as the designated program, we seek comment on the interplay between the limiting nature of the Lifeline program's ETC requirement and the broader understanding of “covered providers.” We also seek comment on the interplay between the Safe Connections Act's definition of “covered providers” and the definition of “provider” used in the ACP.

138. We seek comment on the impact of the designated program's benefit as it pertains to survivors' access to devices following completion of a line separation request. The Lifeline program does not offer any reimbursement for devices, unlike the ACP, which offers reimbursement for qualifying devices, but such devices are limited to internet-connected laptops, desktops, and tablets. Does this significantly impact the Lifeline program's or ACP's effectiveness for survivors? We seek comment on the impact the one-time ACP connected device discount may have for survivors, and in particular, those who qualify to enroll in the designated program under the Safe Connections Act. While the Commission has not adopted rules that offer device reimbursement in the Lifeline program, we seek comment on the ways in which devices are made available to enrolling Lifeline subscribers in the marketplace. Aside from providers, is there a role for organizations that work with survivors suffering financial hardship to help distribute connected devices and mobile phones to those enrolling in Lifeline as the designated program through the Safe Connections Act?

139. We also propose rules the Commission could adopt to implement the emergency communications support provisions of the Safe Connections Act without prejudice as to whether to designate either the Lifeline program or ACP as the program to provide such support. In this regard, we seek comment on both the amendments to Part 54 as they appear at the end of this document (using the Lifeline program as an example), as well as how such amendments could be adapted to the Commission's existing ACP rules.

2. Defining Financial Hardship

140. The Safe Connections Act directs the Commission to allow survivors suffering from financial hardship to enroll in the designated program “without regard to whether the survivor meets the otherwise applicable eligibility requirements.” We seek comment on how to interpret this provision of the Safe Connections Act. We propose to interpret this provision to mean that, if a person meets the criteria of “suffering from financial hardship” and meets the requirements of section 345(c)(1), then the person may enroll in the designated program even if they do not meet the qualification requirements for the designated program, whether Lifeline or the ACP. While the eligibility requirements of Lifeline are established in the Commission's rules, the eligibility criteria for the ACP are statutory. If we were to designate the ACP to provide survivors with emergency communications support, would we have to use the ACP's eligibility requirements in the definition of financial hardship, or did Congress intend that the survivor eligibility requirements in the Safe Connections Act supersede the ACP's statutory eligibility requirements if the ACP were the designated program? If Congress did not intend for the Commission to define financial hardship more expansively than the ACP's statutory eligibility requirements, then what meaning should the Commission attribute to section 5(b)(2)(A)(ii) of the Safe Connections Act?

141. We also seek comment on how we should interpret and incorporate section 345(c)(1) of the Communications Act for purposes of verifying eligibility for the designated program. The Safe Connections Act states that a survivor seeking to participate in the designated program must “meet[ ] the requirements under” the newly added “section 345(c)(1),” which details the process for a survivor completing a line separation request. As a threshold matter, we interpret the Safe Connections Act to limit access to “emergency communications support” in the designated program to those survivors that submit a completed line separation request. Is this interpretation supported by the statute? If not, how should we interpret the language in the Safe Connections Act referring to survivors who “meet the requirements under section 345(c)(1)”? While we believe that the Safe Connections Act limits the opportunity for support to survivors that have submitted a line separation request, can a survivor “meet the requirements under section 345(c)(1)” if they can demonstrate that they are a survivor of a covered act by producing certain documentation?

142. The Safe Connections Act also requires that a survivor be “suffering from financial hardship” to obtain emergency communications support from the designated program. For survivors who leave abusive environments, experiencing financial instability is a common occurrence as a result of increased expenses and economic dependency on former partners. Given the common connection between domestic violence and financial instability, we seek comment on whether we should presume that survivors of domestic violence are suffering from financial hardship and therefore accept documentation of domestic violence as demonstrative of financial hardship. Does the Safe Connections Act allow us to adopt such an approach? Would this interpretation give sufficient meaning to the Safe Connections Act's reference to “financial hardship”? Alternatively, does the Safe Connections Act require us to prescribe demonstration of actual, rather than presumed, financial hardship for purposes of participation in the designated program? Would it be more appropriate to establish criteria allowing a survivor to demonstrate that their abuser had cut them off from prior financial resources to substantiate financial hardship? If so, what should we require to substantiate this claim when the survivor's existing financial documentation may not otherwise demonstrate financial hardship?

143. In response to our Notice of Inquiry, the Electronic Privacy Information Center (EPIC) and other advocacy groups proposed that the Commission allow survivors to self-certify financial hardship. They suggest that because survivors who leave abusive situations often lack access to financial documentation, the Commission should not require survivors to submit any income-verifying documentation. This approach would reduce the barriers of participation for survivors and help survivors access the benefits of the designated program. We believe that, under this approach, any waste, fraud, and abuse concerns could be mitigated by the requirement that survivors also demonstrate that they have met the requirements of section 345(c)(1) and the six-month limitation on receiving emergency communications support. We seek comment on this proposal to allow survivors to self-certify financial hardship. What are the benefits and disadvantages of this approach? If we adopted this approach, should we require survivors to submit an affidavit, as suggested by the NVRDC, as part of the self-certification of financial hardship status? Should any such affidavit or self-certification be submitted under penalty of perjury? Would requiring an affidavit be a barrier preventing survivors from accessing emergency communications support? Should we require that any certification or affidavit be notarized to ensure the veracity of the identity of the signer, and what burdens would a notarization requirement impose on survivors? Alternatively, would allowing trusted third parties such as shelters or social workers to certify the financial hardship status of survivors allow survivors to access emergency communication services while mitigating any risk of waste, fraud, or abuse? In contrast, would requiring a third-party certification present a barrier to survivor participation in the designated emergency communication support program, as EPIC argues? If we allowed for other methods of demonstrating financial hardship beyond income, what documentation should we require from survivors to explain their financial hardship? How could we standardize the reviews of such submissions to ensure that the Commission and USAC operate consistently? Should we direct the Wireline Competition Bureau to work with USAC to develop a standardized certification form, which would clearly define financial hardship to survivors and other entities, for any self-certification efforts? Does the fact that the emergency communications support contemplated by the Safe Connections Act is temporary reduce the risk of waste, fraud, or abuse connected with survivor self-certification?

144. We also seek comment on whether we should allow survivors who are facing temporary financial hardship to receive emergency communications support. Some survivors who have reliable sources of income nevertheless face financial instability or hardship as a result of high temporary or short-term expenses associated with leaving an abusive relationship. Survivors may need to pay expensive medical bills, cover new housing and transportation costs, and find new childcare arrangements, all of which can lead to financial instability. If we allow survivors to qualify for emergency communications support who are facing temporary financial hardship, how should we define temporary financial hardship? Would showings of temporary financial hardship have to be tied to the survivor's income at a particular point in time, or are there other types of documentation that survivors could submit to demonstrate temporary financial hardship? Are there benefit programs that are available to survivors experiencing temporary financial hardship, the participation in which we should accept as qualifying a survivor to participate in the designated program? Does the Safe Connections Act permit us to establish a process for survivors who are experiencing temporary financial hardship to obtain emergency communications support?

145. Alternatively, we could define financial hardship to mirror the ACP eligibility requirements, which are broader than the Lifeline eligibility requirements, even if we deem Lifeline the designated program. This approach would allow many survivors who participate in qualifying programs to have their eligibility automatically confirmed, allowing them to “enroll in the designated program as quickly as feasible” as required by the Safe Connections Act. Moreover, the more expansive eligibility criteria for the ACP will provide additional ways for survivors to demonstrate financial hardship, and will allow providers and USAC to leverage existing connections and documentation requirements to confirm eligibility. We seek comment on this approach. What are the benefits associated with this approach? What are the burdens or barriers that this approach might impose on survivors? Is the income threshold of 200% of the Federal Poverty Guidelines used in the ACP consistent with the Safe Connections Act's goal to allow survivors to get emergency access to the designated program? Are there federal or state benefit programs targeted to survivors whose eligibility standards we could use as a model? Are there any other qualifying benefit programs that we should consider including as part of our definition of financial hardship, and in particular programs targeted at survivors? Are there other approaches that we can use to define financial hardship that are not directly tied to survivors' income?

146. Both Lifeline and the ACP typically require subscribers to demonstrate their eligibility by submitting either proof of income or participation in a qualifying benefit program. The Lifeline program and the ACP have similar approaches for consumers to document their income. For instance, subscribers can demonstrate eligibility on the basis of income by submitting documentation such as tax returns or pay-stubs. If we were to keep a similar approach for survivors entering the designated program, we seek comment on whether and what income documentation we should require survivors to submit to demonstrate they are experiencing financial hardship. Given the unique challenges faced by many survivors in accessing financial information, should we require survivors to submit documents to demonstrate financial hardship prior to enrollment in the designated program, within a certain amount of time after enrollment, or at all? If we adopted a delayed documentation approach, should we permit service providers to claim reimbursement before documentation is confirmed? Would a delayed documentation approach limit service providers' willingness to provide support to survivors if they were unable to claim reimbursement until survivor documentation was approved? If we require survivors to submit documentation to demonstrate financial hardship, what documentation should we collect? Are there other types of income verifying documents that we could allow survivors to submit beyond tax returns and pay stubs?

3. Program Application and Enrollment

147. The Safe Connections Act also directs the Commission to allow a survivor suffering from financial hardship to “enroll in the designated program as quickly as is feasible.” We therefore seek comment on ways in which we can improve (1) the application process for survivors suffering from financial hardship that have successfully gone through the line separation process; (2) the application process for such survivors that were unable to obtain a line separation because of some technical infeasibility; and (3) the application and enrollment process for survivors generally. We also seek comment on how to best approach enrollments for emergency communications support in the NLAD opt-out states or through the ACP's alternative verification process (AVP).

148. We first seek comment on the eligibility determination process for survivors who have successfully completed the line separation process. We propose that survivors should be able to submit documentation of a successful line separation request to qualify for the emergency communications support. Given the potential for variation across service providers, we anticipate that USAC may need to engage in reviews of information documenting a successful line separation request. Is there a way in which the Commission and USAC can standardize confirmation of line separation requests such that USAC will be able to more quickly review such documentation and confirm that a subscriber can participate in the designated program? Should the service provider be required to provide to USAC certification or other documentation confirming the successful line separation request? Would confirmation of a line separation request alone be too ambiguous as lines can be separated for reasons not contemplated by the Safe Connections Act? Might there be ways in which USAC could confirm that a line separation request was tied to an individual's status as a survivor? If a survivor had a line separated by a service provider that also participates in the designated program, would it be appropriate to not require line separation information from the survivor at the time of application and instead rely upon the service provider to maintain that documentation and share it with USAC as part of any program integrity or audit inquiries?

149. The Safe Connections Act also requires the Commission to consider how it might support survivors suffering from financial hardship who attempted to complete a line separation request but were unable to complete that request because of some technical infeasibility. In such situations, should documentation of that outcome be sufficient for a survivor to confirm their status as a survivor and enroll in the designated program? How can USAC best assess the veracity of these notices of technical infeasibility that survivors receive from service providers? Are there ways in which the Commission or USAC can work with service providers to standardize such notices? If the line separation request was processed but confirmed unsuccessful, can it be presumed that the survivor submitted all appropriate documentation to the service provider to confirm their survivor status, or should USAC require that documentation and independently review these materials? Are there ways in which service providers might share confirmation of unsuccessful line separation requests directly with USAC? After USAC has confirmed that a line separation request was submitted but unable to be completed because of a technical infeasibility, how might the survivor be able to enter the designated program? Should the survivor be able to receive the designated program's benefit on their existing account, even if shared with an abuser? We presume that survivors should be permitted to apply the designated program's benefit on any new qualifying service not tied to the abuser, but does that present any unique challenges for survivors and service providers?

150. As part of the process for applying to either Lifeline or the ACP, consumers are required to submit information to USAC's National Verifier that will allow for confirmation of the consumer's identity. By gathering this information, USAC is better able to confirm the identity of a consumer and prevent duplicate enrollments in the Commission's affordability programs. We recognize, however, that providing this type of identity information could be difficult for survivors that may be trying to physically and financially distance themselves from their abusers. As such, we seek comment on whether and how we might gather similar identity information for the process of verification while being sensitive to the privacy and safety needs of survivors. Would the type of information that survivors need to provide as part of the line separation process typically include all of the information that the Commission already collects for its affordability programs? Would this make providing the same information to USAC less concerning for survivors suffering financial hardship, particularly if such survivors will need to provide details of their line separation request? Under the Privacy Act of 1974, the Federal Information Security Modernization Act of 2014 (FISMA), and applicable guidance, the Commission and USAC already have strong privacy protections in place for consumer information; are those measures sufficient for information collected from survivors? Are there best practices that governmental organizations and businesses use for dealing with survivor information, which USAC should implement here, that go above and beyond standard privacy protections? Are there ways in which we can modify the information collected, perhaps by allowing a consumer to submit their identity information with an alias name? If we allow survivors to submit less identity information as part of their application to the designated program, how might we effectively manage program integrity, administration, and audit efforts?

151. Current address information can also be very sensitive information for survivors to share. If such location information is disclosed, it may allow an abuser to locate a survivor, and because of this concern, survivors may not be residing at one location or have a fixed address. They also may be hesitant to seek emergency communications support if they believe their location may be disclosed. To meet these challenges, we seek comment on how we might adjust the address requirements for the designated program to best support survivors suffering from financial hardship. Should USAC rely exclusively on any address information provided as part of the line separation documentation it might receive from survivors suffering financial hardship? Might such address information be inaccurate if the account, after the completion of a line separation request, is no longer tied to a specific address? Our Lifeline rules already contemplate temporary or duplicate addresses for applicants. Does this approach sufficiently resolve the potential risks to survivors suffering from financial hardship? Would it be appropriate to require no address if the applicant can confirm their identity through providing other personal information like their full actual name or date of birth? Would it be appropriate to allow the address of a survivor support organization or other alias address to stand in as an applicant's residential address? Are these types of methods used in other areas and for other services where survivors might seek support?

152. Aside from the issues detailed above, we also seek comment on how the Commission and USAC should modify the designated program's forms to allow survivors suffering from financial hardship to receive support. As noted, we are interested in learning more about what information service providers might have about survivors by virtue of the line separation process and whether such information can be provided to USAC directly from service providers. We are sensitive to the possibility that survivors who would benefit most from participation in the designated program may be experiencing sudden and traumatic hardship, and we seek to make participation readily accessible without compromising the integrity of our programs. Thus, rather than requiring survivors to complete the designated program's full application process and provide their line separation material, would it be appropriate to require survivors to self-certify that they completed a line separation request, regardless of the outcome, as part of their application to participate in the designated program? If we were to adopt such a self-certification approach, we anticipate the need to require more identity information to confirm identity. Under this self-certification approach, we also anticipate needing information consistent with the Safe Connections Act to substantiate that the applicant is a survivor. Would that be appropriate? If we did not collect such information, how might the Commission and USAC confirm that only survivors suffering from financial hardship are enrolling in the program? Even if we do not adopt a self-certification approach for confirming that the survivor went through the line separation process, should we explore a more streamlined application for such survivors? If so, what information that is currently collected might not be appropriate for this community? Alternatively, are there questions or information that should be added to the current program application forms? Should such information be placed on a new supplemental form, similar to the Lifeline program's Household Worksheet? Would it be more appropriate to develop an entirely new application process for survivors seeking to enter the designated program?

153. As part of the Lifeline and ACP enrollment process, consumers are required to have their eligibility confirmed before they can be enrolled into either program by a service provider. This is typically done by the consumer either interacting directly with the National Verifier or by working through a service provider system that confirms information through an application programming interface (API) connection to the National Verifier. After a consumer's qualification has been confirmed, including confirmation that the consumer is not already receiving the Lifeline or ACP benefit, then a service provider can enroll the consumer in NLAD and begin providing discounted service to that consumer. We do not intend to change this general process for survivors suffering financial hardship and seeking to participate in the designated program. However, we do seek comment on ways in which USAC can communicate to survivors and service providers that a survivor has been qualified to participate in the designated program. Should USAC provide survivors with anything different from what is currently provided to confirm qualification? Would it be preferable for USAC to provide a qualification number that will confirm a survivor's ability to participate in the designated program while also allowing them to minimize the amount of personal information they need to provide to their service provider? This approach might result in a qualification number that would allow the service provider to enroll the subscriber in NLAD without seeing the level of personal information that service providers currently see in NLAD. Would such an approach be too administratively burdensome for service providers to monitor and ensure compliance with the designated program's rules? How else might USAC work to categorize survivors in NLAD such that service providers will be aware that a particular subscriber might not be able to participate in the program longer than six months? Is such a categorization necessary?

154. As stated above, we seek comment on whether the Lifeline program or ACP should be the designated program for impacted survivors, and we further propose that survivors seeking to enroll in the designated program under the Safe Connection Act be qualified and enrolled using USAC's application and eligibility confirmation process throughout the country. In California, Texas, and Oregon, the state administrators currently confirm Lifeline eligibility and take measures to prevent duplicate enrollments. As such, consumers in these states apply through the state program administrators for state and federal Lifeline benefits. USAC partners with these states to ensure that their processes are in accordance with the federal Lifeline program's guidelines. Here, however, we propose that survivors in these states apply to participate in Lifeline as the designated program, through USAC's systems directly. USAC would confirm the eligibility of survivors to participate in the program and would work to address any potential duplicates. This would be similar to how broadband-only Lifeline subscribers apply and enroll in California, where the National Verifier stands in for the state administrator. By requiring USAC to review such enrollments we will ensure a standardized process for survivor documentation, greater flexibility to be responsive to survivor needs, a centralized repository for any potential line separation materials that might come from service providers, and a unified process around potential customer transition efforts after the end of the six-month period. In proposing to adopt this approach, we would still permit those with system access to support survivors in the application process through access to USAC's systems. Should we also permit such access to be expanded to community-based organizations that work with survivors? If we did expand access to USAC's systems beyond what is currently permitted, should that access be limited in any particular ways to protect the personal information of survivors and other program participants? We seek comment on these proposals.

155. If the Commission were to choose the ACP as the designated program, we propose that all survivor eligibility determinations should be completed through the National Verifier. As discussed above with Lifeline, we believe that this approach will improve the process for survivors. As such, we propose that providers with approved AVPs would be obligated to accept determinations from the National Verifier. This would be limited to survivors seeking to enter the ACP as the designated program and would not impact the general processes in place for AVP enrollment beyond that group. We seek comment on this proposal.

156. General Program Requirements. The Lifeline program and the ACP both have general requirements to which program participants and service providers must adhere throughout their participation in the programs. For instance, both programs are limited to one benefit per household and both programs also allow a provider to claim reimbursement only for subscribers who actually use their service. We propose that the general rules and requirements of the designated program will remain in effect for survivors and service providers except to the extent that they are in conflict with the statutory and regulatory requirements established specifically for the emergency communications support. This would include such requirements as the programs' non-usage de-enrollment requirements, record retention requirements, and audit requirements. We note that we do not expect annual recertification to be an issue because survivors must qualify through the regular program processes to participate in the designated program beyond their initial six-month period. Our proposal reflects our understanding that the programs' rules were established to ensure that the limited resources of each program go towards individuals that genuinely need the service and will use the service, and that a number of these rules, such as those that deal with enrollment representatives and the payment of commissions, were adopted to address specific program integrity concerns that we think will continue to be relevant in the context of our efforts to offer emergency communications support. As such, we do not believe it would be appropriate to modify these types of requirements. However, we seek comment on this proposal and are particularly interested in whether survivors would be significantly and negatively impacted by the continuation of certain generally applicable programmatic rules in our affordability programs.

157. While we propose to maintain the programs' rules largely in place, we seek comment on how the programs' limit of one benefit per household would interact with a definition of survivors that may implicate individuals living in different households. If we adopt an expansive definition to permit individuals to be caregivers to those not in their own household, should we permit multiple enrollments, including an enrollment for the caregiver's household and an enrollment for the household of the individual against whom a covered act was committed? What administrative challenges would exist with such an approach? How might the Commission and USAC secure proof of the relationship between individuals and protect the designated program from waste, fraud, and abuse?

4. Additional Program Concerns

158. Survivor Transition and Outreach. The Safe Connections Act allows qualifying survivors to participate in the designated program only for six months. We propose to interpret this provision as allowing a survivor's service provider to receive six monthly disbursements of support from the designated program. Is this interpretation consistent with the Safe Connections Act? Are there other ways in which we can measure months when a consumer might be enrolling in the middle of a month? If a survivor uses the program for six months and then needs to use the program again several years later, could the designated program provide an additional period of support, or does the Safe Connections Act only permit six months of support over the lifetime of the survivor? We propose that such repeated periods of support would be permissible. To that end, should we require a certain period of time between periods of support before a survivor that meets the requirements of the Safe Connections Act would be able to re-enter the designated program and receive emergency communications support? If so, we seek comment on the appropriate length of time before a survivor could re-enroll into the designated program based on the Safe Connections Act. In such situations, we presume that a survivor could not rely on their original line separation request and must undergo a new line separation process. Would such a presumption be too limiting? Would allowing survivors to rely on their original line separation request circumvent the Safe Connections Act's six month participation limitation?

159. We also anticipate that there may be situations where a survivor suffering financial hardship seeks to receive service from more than one service provider over the six-month time period or may seek to receive support sporadically, such that the impacted survivor may not have a single six-month time period of participation. We believe that either approach is permitted by the Safe Connections Act and seek comment on our understanding of our legal authority to permit such fluctuations in how a survivor might interact with their service. Should we place any limitations on survivors seeking to change their service provider during a single six-month enrollment period? How might such an approach operate if the designated program is the Lifeline program? Would the approach differ if the designated program is the ACP? In situations of sporadic enrollments over time, what new material, if any, should we require from survivors to re-enter the designated program? Would their original application be sufficient or should survivors be required to submit new applications? Would survivors be obligated to pursue new line separation requests, even when they have not fully utilized six months of emergency communications support? We also propose that USAC should be responsible for monitoring participation in the program to ensure compliance with the Safe Connections Act's time requirement. Through the NLAD, USAC can monitor changes in service providers and calculate a survivor's length of participation in the program. We seek comment on this proposal. Would USAC need to collect any additional information, either from service providers or participating survivors, to complete this work?

160. We also believe that USAC is best positioned to handle transition efforts after the survivor has completed their six months in the designated program. Survivors are able to participate in the Commission's affordability programs indefinitely if they can satisfy the programs' eligibility requirements, and the Safe Connections Act specifically endorses survivors transitioning to the program beyond six months if they meet the designated program's eligibility requirements. We anticipate that USAC will have the appropriate contact information for survivors participating in the designated program, and we propose that USAC directly send outreach material to such survivors explaining how they can meet the eligibility requirements of the Lifeline program and the ACP and receive discounted service beyond their original six-month emergency period. However, if we implement protections for survivors allowing them to submit alias addresses or names as part of the application process, how might that impact any transition efforts? We propose that USAC send this material to participating survivors 60 days before the end of emergency communications support, and that such outreach should include information about participating service providers in the survivor's area. Participating survivors should be free to change their service provider at this time if they choose. Should the service provider also be allowed to communicate with the survivor about their potentially ending benefits? What are the best methods for a provider to contact a survivor? Through SMS-text messages, voice calls, or app-based chat with the participant? At the end of 60 days, if the survivor has not successfully confirmed their eligibility to participate in the designated program beyond six months, we propose that USAC should de-enroll the survivor from the program within five business days of informing the service provider that the subscriber is no longer eligible to receive emergency communications support. We seek comment on this proposal and any potential challenges that it might pose for survivors suffering from financial hardship or service providers.

161. We also seek comment on how the support might operate if we permit survivors suffering from temporary financial hardship to enter the designated program. If a survivor asserts temporary financial hardship and that financial hardship is resolved within six months, would the Safe Connections Act require the survivor to be removed from the designated program? How might we work to implement such an approach? Should we require survivors to notify USAC of any resolution of their financial hardship? Are there other methods by which USAC might be able to learn of this change in circumstances? Would a requirement for early removal once a financial hardship has been resolved be too administratively burdensome for survivors and other stakeholders?

162. Privacy Concerns. As discussed in the Notice of Inquiry and throughout this NPRM, consumer privacy protections are always important to the Commission and USAC. However, we recognize that these concerns are heightened for survivors. The Safe Connections Act directs the Commission to consider the confidentiality of survivor information. To this end, we note that the systems that USAC uses to manage the Lifeline program and the ACP collect only data elements that have been prescribed by the Commission to allow for the effective management of the programs and their protection against potential waste, fraud, and abuse.

163. We seek comment, however, on any other steps the Commission and USAC can take to ensure survivors' safety, while continuing to preserve program integrity and customer service. Should the Commission and USAC consider different approaches for subscriber data in NLAD and the National Verifier than those already implemented? For instance, would it be appropriate to mask certain subscriber data in USAC's systems from service providers? With such an approach, what information would service providers need to know to provide the discounted service and claim subscribers for reimbursement? We also note that USAC manages a call center for the affordability programs to support program participants' enrollment, recertification, and service needs. What processes could USAC put in place to avoid the unintentional release of data to an individual who is not a survivor but who may know some or all of the survivor's personally identifiable information? We suspect that abusers may try to exploit a call center to learn where a survivor might reside. We seek comment on the frequency of this type of behavior, and whether there are best practices to prevent such data leakage. How can USAC and the Commission best inform survivors about potential opportunities for lawful disclosure of information, such as disclosures that may be necessary in response to litigation?

164. Our focus has been on the privacy concerns of survivors, but we also seek comment on any privacy concerns that might arise for the Commission when it comes to personal information associated with alleged abusers. As we may be relying upon only allegations of abuse what might the Commission do to protect the personal information, and ensure the safety, of alleged abusers that may be disclosed in connection with a survivor seeking emergency communications support? What concerns are unique to alleged abusers that may not already be addressed by our general privacy requirements? Are there specific pieces of information more likely to inadvertently identify an abuser than others?

165. Finally, we note that USAC regularly reports programmatic data about both the Lifeline program and the ACP, often including aggregate subscriber data that is sometimes broken down at the county, state, and ZIP code levels. What considerations should the Commission and USAC make when making similar subscriber enrollment information available? Should the Commission filter out survivor enrollments from such aggregate reports? What are the benefits and risks of reporting the total number of survivors enrolled in the programs?

166. Program Evaluation. The Safe Connections Act requires the Commission to complete an evaluation of the designated program two years after the completion of this rulemaking. The evaluation is specifically meant to examine the effectiveness of the support offered to survivors suffering from financial hardship and to assess the detection and elimination of waste, fraud, and abuse with respect to the support offered. We seek comment on ways in which the Commission can satisfy this requirement. What resources can the Commission rely upon to solicit comprehensive program performance data? Are there ways in which we can assess the impacts of the designated program's efforts on survivors more broadly? Would surveying program participants be a viable option for gaining data or might we expect minimal response rates given survivors' privacy concerns? Would shelters and other support programs be appropriate survey recipients, and would they have responsive information to help the Commission understand the program's effectiveness? Are there questions that we might be able to pose to survivors at enrollment or during any potential transition periods that might inform our understanding of the program's effectiveness? Regarding an assessment of our efforts to combat waste, fraud, and abuse, are there specific pieces of data that would be helpful to receive from service providers unique to this population? Alternatively, would USAC's regular program integrity and auditing efforts yield enough information to develop an understanding of our ability to protect program funding?

D. Savings Clause

167. Section 7 of the Safe Connections Act is a savings clause providing that nothing in the Safe Connections Act abrogates, limits, or otherwise affects the Communications Assistance for Law Enforcement Act (CALEA), our regulations implementing the statute, or any amendments to either the statute or our implementing regulations. Despite the provision appearing to be self-effectuating, should we nevertheless incorporate this savings clause into the rules that we adopt in this proceeding? Are there any changes that we should make to our proposed rules to account for operation of the clause that we do not discuss above? For example, would the line separation process affect service providers' ability to comply with CALEA requests pertaining to any devices and telephone numbers associated with line separations?

E. Promoting Digital Equity and Inclusion

168. The Commission, as part of its continuing effort to advance digital equity for all, including people of color, persons with disabilities, persons who live in rural or Tribal areas, and others who are or have been historically underserved, marginalized, or adversely affected by persistent poverty or inequality, invites comment on any equity-related considerations and benefits (if any) that may be associated with the proposals and issues discussed herein. Specifically, we seek comment on how our proposals may promote or inhibit advances in diversity, equity, inclusion, and accessibility, as well the scope of the Commission's relevant legal authority.

II. Procedural Matters

169. Regulatory Flexibility Act. The Regulatory Flexibility Act of 1980, as amended (RFA), requires that an agency prepare a regulatory flexibility analysis for notice and comment rulemakings, unless the agency certifies that “the rule will not, if promulgated, have a significant economic impact on a substantial number of small entities.” Accordingly, the Commission has prepared an Initial Regulatory Flexibility Analysis (IRFA) concerning the possible impact of the rule and policy changes contained in this Notice of Proposed Rulemaking. The IRFA is set forth below.

III. Initial Regulatory Flexibility Analysis

170. As required by the Regulatory Flexibility Act of 1980, as amended (RFA), the Federal Communications Commission (Commission) has prepared this Initial Regulatory Flexibility Analysis (IRFA) of the possible significant economic impact on small entities by the policies and rules proposed in this Notice of Proposed Rulemaking (NPRM). The Commission requests written public comments on this IRFA. Comments must be identified as responses to the IRFA and must be filed by the deadlines for comments provided on the first page of the NPRM. The Commission will send a copy of the NPRM, including this IRFA, to the Chief Counsel for Advocacy of the Small Business Administration (SBA). In addition, the NPRM and IRFA (or summaries thereof) will be published in the Federal Register.

A. Need for, and Objectives of, the Proposed Rules

171. In the NPRM, the Commission begins the process of implementing the Safe Connections Act of 2022 (Safe Connections Act), enacted on December 7, 2022. The legislation amends the Communications Act of 1934 (Communications Act) to require mobile service providers to separate the line of a survivor of domestic violence (and other related crimes and abuse), and any individuals in the care of the survivor, from a mobile service contract shared with an abuser within two business days after receiving a request from the survivor. The Safe Connections Act also directs the Commission to issue rules, within 18 months of the statute's enactment, implementing the line separation requirement. The Safe Connections Act also requires the Commission to designate either the Lifeline program or the Affordable Connectivity Program (ACP) as the vehicle for providing survivors suffering financial hardship with emergency communications support for up to six months. Further, the legislation requires the Commission to open a rulemaking within 180 days of enactment to consider whether to, and how the Commission should, establish a central database of domestic abuse hotlines to be used by service providers and require such providers to omit, subject to certain conditions, any records of calls or text messages to the hotlines from consumer-facing call and text message logs. The Notice proposes rules as directed by these three statutory requirements. We believe that these measures will aid survivors who lack meaningful support and communications options when establishing independence from an abuser.

B. Legal Basis

172. The legal basis for any action that may be taken pursuant to this NPRM is contained in sections 1, 4(i), 4(j), 254, 345, and 403 of the Communications Act of 1934, as amended, 47 U.S.C. 151, 154(i), 154(j), 254, 345, and 403, section 5(b) of the Safe Connections Act of 2022, Public Law 117-223, 136 Stat. 2280, and section 904 of Division N, Title IX of the Consolidated Appropriations Act, 2021, Public Law 116-260, 134 Stat. 1182, as amended by the Infrastructure Investment and Jobs Act, Public Law 117-58, 135 Stat. 429.

C. Description and Estimate of the Number of Small Entities To Which the Proposed Rules Will Apply

173. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A “small business concern” is one which: (1) is independently owned and operated; (2) is not dominant in its field of operation; and (3) satisfies any additional criteria established by the Small Business Administration (SBA).

174. Small Businesses, Small Organizations, Small Governmental Jurisdictions. Our actions, over time, may affect small entities that are not easily categorized at present. We therefore describe, at the outset, three broad groups of small entities that could be directly affected herein. First, while there are industry specific size standards for small businesses that are used in the regulatory flexibility analysis, according to data from the Small Business Administration's (SBA) Office of Advocacy, in general a small business is an independent business having fewer than 500 employees. These types of small businesses represent 99.9% of all businesses in the United States, which translates to 32.5 million businesses.

175. Next, the type of small entity described as a “small organization” is generally “any not-for-profit enterprise which is independently owned and operated and is not dominant in its field.” The Internal Revenue Service (IRS) uses a revenue benchmark of $50,000 or less to delineate its annual electronic filing requirements for small exempt organizations. Nationwide, for tax year 2020, there were approximately 447,689 small exempt organizations in the U.S. reporting revenues of $50,000 or less according to the registration and tax data for exempt organizations available from the IRS.

176. Finally, the small entity described as a “small governmental jurisdiction” is defined generally as “governments of cities, counties, towns, townships, villages, school districts, or special districts, with a population of less than fifty thousand.” U.S. Census Bureau data from the 2017 Census of Governments indicate there were 90,075 local governmental jurisdictions consisting of general purpose governments and special purpose governments in the United States. Of this number, there were 36,931 general purpose governments (county, municipal, and town or township) with populations of less than 50,000 and 12,040 special purpose governments—independent school districts with enrollment populations of less than 50,000. Accordingly, based on the 2017 U.S. Census of Governments data, we estimate that at least 48,971 entities fall into the category of “small governmental jurisdictions.”

177. Wired Telecommunications Carriers. The U.S. Census Bureau defines this industry as establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. Wired Telecommunications Carriers are also referred to as wireline carriers or fixed local service providers.

178. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2021 Universal Service Monitoring Report, as of December 31, 2020, there were 5,183 providers that reported they were engaged in the provision of fixed local services. Of these providers, the Commission estimates that 4,737 providers have 1,500 or fewer employees. Consequently, using the SBA's small business size standard, most of these providers can be considered small entities.

179. Local Exchange Carriers (LECs). Neither the Commission nor the SBA has developed a size standard for small businesses specifically applicable to local exchange services. Providers of these services include both incumbent and competitive local exchange service providers. Wired Telecommunications Carriers is the closest industry with an SBA small business size standard. Wired Telecommunications Carriers are also referred to as wireline carriers or fixed local service providers. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2021 Universal Service Monitoring Report, as of December 31, 2020, there were 5,183 providers that reported they were fixed local exchange service providers. Of these providers, the Commission estimates that 4,737 providers have 1,500 or fewer employees. Consequently, using the SBA's small business size standard, most of these providers can be considered small entities.

180. Competitive Local Exchange Carriers (LECs). Neither the Commission nor the SBA has developed a size standard for small businesses specifically applicable to local exchange services. Providers of these services include several types of competitive local exchange service providers. Wired Telecommunications Carriers is the closest industry with an SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2021 Universal Service Monitoring Report, as of December 31, 2020, there were 3,956 providers that reported they were competitive local exchange service providers. Of these providers, the Commission estimates that 3,808 providers have 1,500 or fewer employees. Consequently, using the SBA's small business size standard, most of these providers can be considered small entities.

181. Interexchange Carriers (IXCs). Neither the Commission nor the SBA have developed a small business size standard specifically for Interexchange Carriers. Wired Telecommunications Carriers is the closest industry with an SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2021 Universal Service Monitoring Report, as of December 31, 2020, there were 151 providers that reported they were engaged in the provision of interexchange services. Of these providers, the Commission estimates that 131 providers have 1,500 or fewer employees. Consequently, using the SBA's small business size standard, the Commission estimates that the majority of providers in this industry can be considered small entities.

182. Cable System Operators (Telecom Act Standard). The Communications Act of 1934, as amended, contains a size standard for a “small cable operator,” which is “a cable operator that, directly or through an affiliate, serves in the aggregate fewer than one percent of all subscribers in the United States and is not affiliated with any entity or entities whose gross annual revenues in the aggregate exceed $250,000,000.” For purposes of the Telecom Act Standard, the Commission determined that a cable system operator that serves fewer than 677,000 subscribers, either directly or through affiliates, will meet the definition of a small cable operator based on the cable subscriber count established in a 2001 public notice. Based on industry data, only six cable system operators have more than 677,000 subscribers. Accordingly, the Commission estimates that the majority of cable system operators are small under this size standard. We note however, that the Commission neither requests nor collects information on whether cable system operators are affiliated with entities whose gross annual revenues exceed $250 million. Therefore, we are unable at this time to estimate with greater precision the number of cable system operators that would qualify as small cable operators under the definition in the Communications Act.

183. Other Toll Carriers. Neither the Commission nor the SBA has developed a definition for small businesses specifically applicable to Other Toll Carriers. This category includes toll carriers that do not fall within the categories of interexchange carriers, operator service providers, prepaid calling card providers, satellite service carriers, or toll resellers. Wired Telecommunications Carriers is the closest industry with an SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2021 Universal Service Monitoring Report, as of December 31, 2020, there were 115 providers that reported they were engaged in the provision of other toll services. Of these providers, the Commission estimates that 113 providers have 1,500 or fewer employees. Consequently, using the SBA's small business size standard, most of these providers can be considered small entities.

184. Wireless Telecommunications Carriers (except Satellite). This industry comprises establishments engaged in operating and maintaining switching and transmission facilities to provide communications via the airwaves. Establishments in this industry have spectrum licenses and provide services using that spectrum, such as cellular services, paging services, wireless internet access, and wireless video services. The SBA size standard for this industry classifies a business as small if it has 1,500 or fewer employees. U.S. Census Bureau data for 2017 show that there were 2,893 firms in this industry that operated for the entire year. Of that number, 2,837 firms employed fewer than 250 employees. Additionally, based on Commission data in the 2021 Universal Service Monitoring Report, as of December 31, 2020, there were 797 providers that reported they were engaged in the provision of wireless services. Of these providers, the Commission estimates that 715 providers have 1,500 or fewer employees. Consequently, using the SBA's small business size standard, most of these providers can be considered small entities.

185. Satellite Telecommunications. This industry comprises firms “primarily engaged in providing telecommunications services to other establishments in the telecommunications and broadcasting industries by forwarding and receiving communications signals via a system of satellites or reselling satellite telecommunications.” Satellite telecommunications service providers include satellite and earth station operators. The SBA small business size standard for this industry classifies a business with $38.5 million or less in annual receipts as small. U.S. Census Bureau data for 2017 show that 275 firms in this industry operated for the entire year. Of this number, 242 firms had revenue of less than $25 million. Additionally, based on Commission data in the 2021 Universal Service Monitoring Report, as of December 31, 2020, there were 71 providers that reported they were engaged in the provision of satellite telecommunications services. Of these providers, the Commission estimates that approximately 48 providers have 1,500 or fewer employees. Consequently, using the SBA's small business size standard, a little more than half of these providers can be considered small entities.

186. Wireless Broadband internet Access Service Providers (Wireless ISPs or WISPs). Providers of wireless broadband internet access service include fixed and mobile wireless providers. The Commission defines a WISP as “[a] company that provides end-users with wireless access to the internet[.]” Wireless service that terminates at an end user location or mobile device and enables the end user to receive information from and/or send information to the internet at information transfer rates exceeding 200 kilobits per second (kbps) in at least one direction is classified as a broadband connection under the Commission's rules. Neither the SBA nor the Commission have developed a size standard specifically applicable to Wireless Broadband internet Access Service Providers. The closest applicable industry with an SBA small business size standard is Wireless Telecommunications Carriers (except Satellite). The SBA size standard for this industry classifies a business as small if it has 1,500 or fewer employees. U.S. Census Bureau data for 2017 show that there were 2,893 firms in this industry that operated for the entire year. Of that number, 2,837 firms employed fewer than 250 employees.

187. Additionally, according to Commission data on internet access services as of December 31, 2018, nationwide there were approximately 1,209 fixed wireless and 71 mobile wireless providers of connections over 200 kbps in at least one direction. The Commission does not collect data on the number of employees for providers of these services, therefore, at this time we are not able to estimate the number of providers that would qualify as small under the SBA's small business size standard. However, based on data in the Commission's 2022 Communications Marketplace Report on the small number of large mobile wireless nationwide and regional facilities-based providers, the dozens of small regional facilities-based providers and the number of wireless mobile virtual network providers in general, as well as on terrestrial fixed wireless broadband providers in general, we believe that the majority of wireless internet access service providers can be considered small entities.

188. Local Resellers. Neither the Commission nor the SBA have developed a small business size standard specifically for Local Resellers. Telecommunications Resellers is the closest industry with an SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2021 Universal Service Monitoring Report, as of December 31, 2020, there were 293 providers that reported they were engaged in the provision of local resale services. Of these providers, the Commission estimates that 289 providers have 1,500 or fewer employees. Consequently, using the SBA's small business size standard, most of these providers can be considered small entities.

189. Toll Resellers. Neither the Commission nor the SBA have developed a small business size standard specifically for Toll Resellers. Telecommunications Resellers is the closest industry with an SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2021 Universal Service Monitoring Report, as of December 31, 2020, there were 518 providers that reported they were engaged in the provision of toll services. Of these providers, the Commission estimates that 495 providers have 1,500 or fewer employees. Consequently, using the SBA's small business size standard, most of these providers can be considered small entities.

190. All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g. dial-up ISPs) or voice over internet protocol (VoIP) services, via client-supplied telecommunications connections are also included in this industry. The SBA small business size standard for this industry classifies firms with annual receipts of $35 million or less as small. U.S. Census Bureau data for 2017 show that there were 1,079 firms in this industry that operated for the entire year. Of those firms, 1,039 had revenue of less than $25 million. Based on this data, the Commission estimates that the majority of “All Other Telecommunications” firms can be considered small.

D. Description of Projected Reporting, Recordkeeping, and Other Compliance Requirements for Small Entities

191. The NPRM seeks comment on proposed rules that would help survivors separate service lines from accounts that include their abusers, protect the privacy of calls made by survivors to domestic abuse hotlines, and support survivors that pursue a line separation request and face financial hardship through the Commission's affordability programs. The proposed actions could potentially result in additional equipment costs, new or modified recordkeeping, reporting, or other compliance requirements for covered providers such as facilities-based Mobile Network Operators, as well as resellers/Mobile Virtual Network Operators. Among other things, the proposed actions would require covered providers, within two business days of receiving a completed request from a survivor, to (1) separate the line of the survivor, and the line of any individual in the care of the survivor, from a shared mobile service contract, or (2) separate the line of the abuser from a shared mobile service contract. The NPRM seeks comment as to the potential impact to small entities of the proposed timeframe. Entities, especially small businesses, are encouraged to quantify the costs and benefits of any reporting, recordkeeping, or compliance requirement that may be established in this proceeding.

E. Steps Taken To Minimize the Significant Economic Impact on Small Entities, and Significant Alternatives Considered

192. The RFA requires an agency to describe any significant, specifically small business, alternatives that it has considered in reaching its proposed approach, which may include the following four alternatives (among others): (1) the establishment of differing compliance or reporting requirements or timetables that take into account the resources available to small entities; (2) the clarification, consolidation, or simplification of compliance and reporting requirements under the rules for such small entities; (3) the use of performance rather than design standards; and (4) an exemption from coverage of the rule, or any part thereof, for such small entities.

193. The NPRM seeks comment on the particular impacts that the proposed rules may have on small entities. Specifically, the NPRM seeks comment throughout on the burdens of the proposed rules, and any alternatives, on covered providers, including small providers. The NPRM also seeks comment on an appropriate timeframe for covered providers to implement the necessary technical and programmatic changes to comply with the requirements under section 345 and our proposed rules, as well as whether there are challenges unique to small covered providers that may require a longer implementation period than larger covered providers. Additionally, the NPRM seeks comment on the ways in which program changes to either the Lifeline program or the ACP might impact both consumers and service providers participating in either program. Service providers participating in these programs may include small providers. Further, the NPRM seeks comment on whether small service providers should either be exempted or provided additional time to implement the proposed obligation to omit from consumer-facing logs of calls and text messages calls to and text messages delivered to a central database of domestic abuse hotlines that the Commission proposed to establish.

F. Federal Rules That May Duplicate, Overlap, or Conflict With the Proposed Rules

194. None.

IV. Ordering Clauses

195. Accordingly, it is ordered, pursuant to the authority contained in sections 1, 4(i), 4(j), 254, 345, and 403 of the Communications Act of 1934, as amended, 47 U.S.C. 151, 154(i), 154(j), 254, 345, and 403, section 5(b) of the Safe Connections Act of 2022, Public Law 117-223, 136 Stat. 2280, and section 904 of Division N, Title IX of the Consolidated Appropriations Act, 2021, Public Law 116-260, 134 Stat. 1182, as amended by the Infrastructure Investment and Jobs Act, Public Law 117-58, 135 Stat. 429, that this Notice of Proposed Rulemaking is adopted.

196. It is further ordered that the Commission's Consumer and Governmental Affairs Bureau, Reference Information Center, shall send a copy of this Notice of Proposed Rulemaking, including the Initial Regulatory Flexibility Analysis, to the Chief Counsel for Advocacy of the Small Business Administration.

List of Subjects

47 CFR Part 54

Internet telecommunications, Reporting and recordkeeping requirement, Telephone.

47 CFR Part 64

Communications, Communications common carriers, Communications equipment, Individuals with disabilities, Reporting and recordkeeping requirements, Security measures, Telecommunications, Telephone.

Federal Communications Commission.
Marlene Dortch,
Secretary.

Proposed Rules

For the reasons discussed in the preamble, the Federal Communications Commission proposes to amend 47 CFR parts 54 and 64 as follows:

PART 54—UNIVERSAL SERVICE

1. The authority citation for part 54 is revised to read as follows:

Authority: 47 U.S.C. 151, 154(i), 155, 201, 205, 214, 219, 220, 229, 254, 303(r), 403, 1004, 1302, 1601-1609, and 1752, unless otherwise noted; Public Law 117-223, sec. 5, 136 Stat 2280, 2285-88.

2. Amend § 54.400 by adding paragraphs (q) through (s) to read as follows:

§ 54.400 Terms and definitions.

* * * * *

(q) Survivor. “Survivor” shall have the definition as applied in 47 CFR 64.6400(q).

(r) Emergency Communications Support. “Emergency communications support” means support received through the Lifeline program by qualifying survivors pursuant to the Safe Connections Act of 2022, Public Law 117-223.

(s) Financial Hardship. “Financial hardship” means that a consumer has met the requirements of § 54.1800(j)(1) through (6) of subpart R of this part.

3. Amend § 54.405 by adding paragraph (e)(6) to read as follows:

§ 54.405 Carrier obligation to offer Lifeline.

* * * * *

(e) * * *

(6) De-enrollment from emergency communications support. Notwithstanding paragraph (e)(1) of this section, upon determination by the Administrator that a subscriber receiving emergency communications support has exhausted the subscriber's six months of support and has not been able to qualify to participate in the Lifeline program as defined by § 54.401 of this subpart, the Administrator must de-enroll the subscriber from participation in that Lifeline program within five business days. An eligible telecommunications carrier shall not be eligible for Lifeline reimbursement for any de-enrolled subscriber following the date of that subscriber's de-enrollment.

4. Add § 54.424 to subpart E to read as follows:

§ 54.424 Emergency Communications Support for Survivors.

(a) Confirmation of subscriber eligibility. All eligible telecommunications carriers must implement policies and procedures for ensuring that subscribers receiving emergency communications support from the Lifeline program are eligible to receive such support. An eligible telecommunications carrier must not seek reimbursement for providing Lifeline service to a subscriber, based on that subscriber's eligibility to receive emergency communications support, unless the carrier has received from the National Verifier:

(1) Notice that the prospective subscriber has submitted a line separation request as set forth in 47 CFR 64.6401;

(2) Notice that the prospective subscriber has demonstrated or self-certified to their financial hardship status as defined in § 54.400(s); and

(3) A copy of the subscriber's certification that complies with the requirements set forth in § 54.410(d).

(4) An eligible telecommunications carrier must securely retain all information and documentation provided by the National Verifier consistent with § 54.417.

(b) Emergency communications support amount. Emergency communications support in the amount of up to $9.25 per month will be made available, from the Lifeline program, to eligible telecommunications carriers providing service to qualifying survivors. An eligible telecommunications carrier must certify to the Administrator that it will pass through the full amount of support to the qualifying survivor and that it has received any non-federal regulatory approvals necessary to implement the rate reduction.

(1) This base reimbursement can be applied to survivors receiving service that meets either the minimum service standard for voice service or broadband internet access service, as determined in accordance with § 54.408.

(2) Additional federal Lifeline support of up to $25 per month will be made available to an eligible telecommunications carrier providing emergency communications support to an eligible survivor resident of Tribal lands, as defined in § 54.400(e), to the extent that the eligible telecommunications carrier certifies to the Administrator that it will pass through the full Tribal lands support amount to the qualifying eligible resident of Tribal lands and that it has received any non-federal regulatory approvals necessary to implement the required rate reduction.

(c) Emergency communications support duration. Qualified survivors shall be eligible to receive emergency communications support for a total of no more than six months. This limitation applies across all eligible telecommunications carriers, and the Administrator will inform eligible telecommunications carriers when participating survivors have reached their limit in emergency communications support. Survivors that have reached their emergency communications support limit may still participate in the Commission's affordability programs if they can satisfy the eligibility requirements of the program.

(d) Lifeline rules applicable. Other Lifeline rules in this subpart not contradicted by provisions of this section shall remain in force to manage the participation of survivors receiving emergency communications support.

PART 64—MISCELLANEOUS RULES RELATING TO COMMON CARRIERS

5. The authority citation for part 64 is revised to read as follows:

Authority: 47 U.S.C. 151, 152, 154, 201, 202, 217, 218, 220, 222, 225, 226, 227, 227b, 228, 251(a), 251(e), 254(k), 255, 262, 276, 345, 403(b)(2)(B), (c), 616, 620, 716, 1401-1473, unless otherwise noted; Public Law 115-141, Div. P, sec. 503, 132 Stat. 348, 1091; Pub. L. 117-223, sec. 5, 136 Stat 2280, 2285-88.

6. Add subpart II, consisting of §§ 64.6400 through 64.6404, to read as follows:

Subpart II—Communications Service Protections for Victims of Domestic and Other Violence

§ 64.6400 Definitions.

For purposes of this subpart:

(a) Abuser. The term “abuser” means an individual who has committed or allegedly committed a covered act, as defined in this subpart, against (1) an individual who seeks relief under this subpart; or (2) an individual in the care of an individual who seeks relief under this subpart.

(b) Call. The term “call” means a voice service transmission, regardless of whether such transmission is completed.

(c) Consumer-Facing Logs of Calls and Text Messages. The term “consumer-facing logs of calls and text messages” means any means by which a covered service provider or wireline provider of voice service presents a listing of telephone numbers to which calls or text messages were directed, regardless of, for example, the medium used (such as by paper, online listing, or electronic file), whether the call was completed or the text message was delivered, whether part of a bill or otherwise, and whether requested by the consumer or otherwise provided. The term includes oral and written disclosures by covered service providers and wireline providers of voice service of individual call and text message records.

(d) Covered Act. “Covered act” means conduct that constitutes (1) a crime described in section 40002(a) of the Violence Against Women Act of 1994 (34 U.S.C. 12291(a)), including, but not limited to, domestic violence, data violence, sexual assault, stalking, and sex trafficking; (2) an act or practice described in paragraph (11) or (12) of section 103 of the Trafficking Victims Protection Act of 2000 (22 U.S.C. 7102) (relating to severe forms of trafficking in persons and sex trafficking, respectively); or (3) an act under State law, Tribal law, or the Uniform Code of Military Justice that is similar to an offense described in clause (1) or (2) of this paragraph. A criminal conviction or any other determination of a court shall not be required for conduct described in this paragraph to constitute a covered act.

(e) Covered hotline. The term “covered hotline” means a hotline related to domestic violence, dating violence, sexual assault, stalking, sex trafficking, severe forms of trafficking in persons, or any other similar act. Such term includes any telephone number on which more than a de minimis amount of counseling and/or information is provided on domestic violence, dating violence, sexual assault, stalking, sex trafficking, severe forms of trafficking in persons, or any other similar acts.

(f) Covered provider. “Covered provider” means a provider of a private mobile service or commercial mobile service, as those terms are defined in 47 U.S.C. 332(d).

(g) Designated Program. “Designated program” refers to the program designated by the Commission at 47 CFR 54.424 to provide emergency communications support to survivors.

(h) Primary account holder. “Primary account holder” means an individual who is a party to a mobile service contract with a covered provider.

(i) Shared mobile service contract. “Shared mobile service contract” means a mobile service contract for an account that includes not less than two lines of service, and does not include enterprise services offered by a covered provider.

(j) Survivor. “Survivor” means an individual who is not less than 18 years old and (1) against whom a covered act has been committed or allegedly committed; or (2) who cares for another individual against whom a covered act has been committed or allegedly committed (provided that the individual providing care did not commit or allegedly commit the covered act).

(k) Text message. The term “text message” has the meaning given such term in section 227(e)(8) of the Communications Act of 1934, as amended (47 U.S.C. 227(e)(8)).

(l) Voice service. The term “voice service” has the meaning given such term in section 4(a) of the Pallone-Thune Telephone Robocall Abuse Criminal Enforcement and Deterrence Act (47 U.S.C. 227b(a)).

§ 64.6401 Requests for Line Separations.

(a) A survivor seeking to separate a line from a shared mobile service contract pursuant to this subpart shall submit to the covered provider a line separation request requesting relief under section 345 of the Communications Act of 1934, as amended, and this subpart that identifies each line that should be separated. In the case of a survivor seeking separation of the survivor's line (and/or the lines of individuals in the care of the survivor), the line separation request also must (1) state that the survivor is the user of that specific line, and (2) include an affidavit setting forth that an individual in the care of the survivor is the user of that specific line and that the individual is in the care of the survivor.

(b) A survivor seeking to separate a line or lines from a shared mobile service contract pursuant to this subpart must verify that an individual who uses a line under the shared mobile service contract has committed or allegedly committed a covered act against the survivor or an individual in the survivor's care by providing:

(1) A copy of a signed affidavit from a licensed medical or mental health care provider, licensed military medical or mental health care provider, licensed social worker, victim services provider, or licensed military victim services provider, or an employee of a court, acting within the scope of that person's employment; or

(2) A copy of a police report, statements provided by police, including military police, to magistrates or judges, charging documents, protective or restraining orders, military protective orders, or any other official record that documents the covered act.

(c) Notwithstanding 47 U.S.C. 222(c)(2), a covered provider; any officer, director, or employee of a covered provider; and any vendor, agent, or contractor of a covered provider that receives or processes line separation requests with the survivor's consent or as needed to effectuate the request, shall treat any information submitted by a survivor under this subpart as confidential and securely dispose of the information not later than 90 days after receiving the information. A covered provider shall not be prohibited from maintaining a record that verifies that a survivor fulfilled the conditions of a line separation request under this subpart for longer than 90 days after receiving the information so long as the covered provider also treats such records as confidential and securely disposes of them.

(d) Nothing in this section shall affect any law or regulation of a State providing communications protections for survivors (or any similar category of individuals) that has less stringent requirements for providing evidence of a covered act (or any similar category of conduct) than this section.

§ 64.6402 Separation of Lines from Shared Mobile Service Contract.

(a) Except as described in paragraph (b) of this section, not later than two businesses days after receiving a completed line separation request from a survivor pursuant to § 64.6401, a covered provider shall, with respect to a shared mobile service contract under which the survivor and the abuser each use a line:

(1) Separate the line of the survivor, and the line of any individual in the care of the survivor, from the shared mobile service contract; or

(2) Separate the line of the abuser from the shared mobile service contract.

(b) If a covered provider cannot operationally or technically effectuate a line separation request, the covered provider shall:

(1) Notify the survivor who submitted the request of that infeasibility at the time of the request or, in the case of a survivor who has submitted the request using remote means, not later than 2 business days after receiving the request; and

(2) Provide the survivor with information about other alternatives to submitting a line separation request, including starting a new line of service.

(c) A covered provider shall offer a survivor the ability to submit a line separation request through secure remote means that are easily navigable, provided that remote options are commercially available and technically feasible.

(d) A covered provider shall notify a survivor seeking relief under this subpart, in clear and accessible language, that the covered provider may contact the survivor, or designated representative of the survivor, to confirm the line separation, or if the covered provider is unable to complete the line separation for any reason. A covered provider shall provide this notification through remote means, provided that remote means are commercially available and technically feasible.

(e) When completing a line separation request submitted by a survivor through remote means, a covered provider shall allow the survivor to elect in the manner in which a covered provider may:

(1) Contact the survivor, or designated representative of the survivor, in response to the request, if necessary; or

(2) Notify the survivor, or designated representative of the survivor, of the inability of the covered provider to complete the line separation.

(f) A covered provider shall notify the survivor of the date on which the covered provider intends to give any formal notice to the primary account holder if a covered provider separates a line from a shared mobile service contract under this section and the primary account holder is not the survivor.

(g) A covered provider that receives a line separation request from a survivor pursuant to this subpart shall inform the survivor of:

(1) The existence of the designated program;

(2) Who qualifies to participate in the designated program under 47 CFR 54.424; and

(3) How to participate in the designated program under 47 CFR 54.424.

(h) A covered provider may not make separation of a line from a shared mobile service contract under paragraph (a) of this section contingent on any limitation or requirement other than those described in paragraphs (i) and (j) of this section, including, but not limited to:

(1) Payment of a fee, penalty, or other charge;

(2) Maintaining contractual or billing responsibility of a separated line with the provider;

(3) Approval of separation by the primary account holder, if the primary account holder is not the survivor;

(4) A prohibition or limitation, including payment of a fee, penalty, or other charge, on number portability, provided such portability is technically feasible;

(5) A prohibition or limitation, including payment of a fee, penalty, or other charge, on a request to change phone numbers;

(6) A prohibition or limitation on the separation of lines as a result of arrears accrued by the account; or

(7) An increase in the rate charged for the mobile service plan of the primary account holder with respect to service on any remaining line or lines.

(i) Nothing in paragraph (h) of this section shall be construed to require a covered provider to provide a rate plan for the primary account holder that is not otherwise commercially available.

(j) Notwithstanding paragraph (g) of this section, beginning on the date on which a covered provider transfers billing responsibilities for and use of a telephone number or numbers to a survivor under paragraph (a)(1) of this section, the survivor shall assume financial responsibility, including for monthly service costs, for the transferred telephone number or numbers, unless ordered otherwise by a court. Upon the transfer of a telephone number under paragraph (a)(2) of this section to separate the line of the abuser from a shared mobile service contract, the survivor shall have no further financial responsibilities to the transferring covered provider for the services provided by the transferring covered provider for the telephone number or for any mobile device associated with the telephone number.

(k) Notwithstanding paragraph (g) of this section, beginning on the date on which a covered provider transfers billing responsibilities for and rights to a telephone number or numbers to a survivor under paragraph (a)(1) of this section, the survivor shall not assume financial responsibility for any mobile device associated with the separated line, unless the survivor purchased the mobile device, or affirmatively elects to maintain possession of the mobile device, unless otherwise ordered by a court.

§ 64.6403 Notice of Line Separation Availability to Consumers.

A covered provider shall make information about the line separation options and processes described in this subpart readily available to consumers:

(a) On the website and mobile application of the provider;

(b) In physical stores; and

(c) In other forms of public-facing consumer communication.

§ 64.6404 Protection of the Privacy of Calls and Text Messages to Covered Hotlines.

All covered providers and wireline providers of voice service shall:

(a) Omit from consumer-facing logs of calls and text messages any records of calls or text messages to covered hotlines in the central database established by the Commission.

(b) Maintain internal records of calls and text messages excluded from call and text logs pursuant to paragraph (a) of this section.

(c) Be responsible for downloading the initial and subsequent updates to the central database established by the Commission.

[FR Doc. 2023-04489 Filed 3-10-23; 8:45 am]

BILLING CODE 6712-01-P